DEPARTMENT OF TRANSPORTATION

Federal Transit Administration

FTA Fiscal Year 2024 Apportionments, Allocations, and Program Information

AGENCY: Federal Transit Administration (FTA), Department of Transportation (DOT).

ACTION: Notice.

SUMMARY: This notice provides program updates in Fiscal Year (FY) 2024, announces the Consolidated Appropriations Act, 2024, and full-year apportionments and allocations for grant programs, provides contract authority, and describes plans for several competitive programs.

FOR FURTHER INFORMATION CONTACT: For general information about this notice, contact John Bodnar, Director of Transit Programs, Office of Program Management, at (202) 366-2053. Please contact the appropriate FTA Regional Office for any specific requests for information or technical assistance. FTA Regional Office contact information is available on FTA's website: https://www.transit.dot.gov/about/regional-offices/regional-offices. An FTA headquarters contact for each major program area is included in the discussion of that program in the text of this notice. FTA recommends stakeholders subscribe via: https://public.govdelivery.com/accounts/USDOTFTA/subscriber/new?category_id=USDOTFTA_C22, to receive email notifications when new information is available.

SUPPLEMENTARY INFORMATION:

Table of Contents

I. Overview

II. FY 2024 Funding for FTA Programs

A. Funding Available Under the Consolidated Appropriations Act, 2024

B. Oversight Takedown

C. FY 2024 Formula Apportionments Data and Methodology

III. FY 2024 Highlights and Updates

A. Highlights

1. Safety—PTASP and Safety Committees

2. Census Urbanized Areas Designations

3. Flexible Funding

B. Updates

1. Expanded Pre-Award Authority for Small Starts Projects

2. FY 2024 Competitive Programs Updates

IV. Program Information

A. Metropolitan and Statewide Transportation Planning Program (49 U.S.C. 5303 and 5305(d))

B. State Planning and Research Program (49 U.S.C. 5304 and 5305(e))

C. Urbanized Area Formula Program (49 U.S.C. 5307)

D. Fixed Guideway Capital Investment Grants Program (49 U.S.C. 5309)

E. Enhanced Mobility of Seniors and Individuals With Disabilities Program (49 U.S.C. 5310)

F. Formula Grants for Rural Areas Program (49 U.S.C. 5311)

G. Rural Transportation Assistance Program (49 U.S.C. 5311(b)(3))

H. Appalachian Development Public Transportation Assistance Program (49 U.S.C. 5311(c)(2))

I. Formula Grants for Public Transportation on Indian Reservations Program (49 U.S.C. 5311(j))

J. Public Transportation Innovation (49 U.S.C. 5312)

K. Technical Assistance and Workforce Development (49 U.S.C. 5314)

L. Public Transportation Emergency Relief Program (49 U.S.C. 5324)

M. Public Transportation Safety Program (49 U.S.C. 5329)

N. State of Good Repair Program (49 U.S.C. 5337)

O. Grants for Buses and Bus Facilities Program (49 U.S.C. 5339)

P. Growing States and High-Density States Formula Factors (49 U.S.C. 5340)

Q. Washington Metropolitan Area Transit Authority Grants

R. Community Project Funding/Congressionally Directed Spending

V. FTA Policy and Procedures for FY 2024 Grants

A. Automatic Pre-Award Authority To Incur Project Costs

B. FY 2024 Annual List of Certifications and Assurances

C. Letter of No Prejudice (LONP) Policy

D. Civil Rights Requirements

E. Consolidated Planning Grants

F. Grant Application Procedures

G. Grant Management

I. Overview

This notice provides updates for the Federal Transit Administration's (FTA) programs in Fiscal Year (FY) 2024, announces the Consolidated Appropriations Act, 2024, (Pub. L. 118-42) and full-year apportionments and allocations for grant programs, provides contract authority, and describes plans for several competitive programs.

It also contains information on how FTA plans to administer its transit programs in FY 2024 and how funds appropriated and allocated prior to FY 2024 will be treated.

This notice highlights FTA programs and provides specific information about FTA's statutory programs.

For each FTA program appropriated funds in the Consolidated Appropriations Act, 2024, FTA also provides information on the Infrastructure Investment and Jobs Act (IIJA, Pub. L. 117-58) authorized funding levels for FY 2024, the basis for apportionment or allocation of funds, requirements specific to the program, period of availability of funds, and other program information. A separate section provides information on pre-award authority and other requirements and guidance applicable to FTA programs and grant administration. Finally, the notice includes references to tables on FTA's website that show amounts apportioned under the FY 2024 appropriations act and approximately $8.7 billion in unobligated or carryover funding available in FY 2024 under certain discretionary and Congressionally directed programs carried out in accordance with prior and current authorization and appropriations acts.

Information in this document includes references to existing FTA program guidance and circulars. Some information in guidance and circulars may have been superseded by provisions in IIJA, but these guidance documents and circulars remain a resource for program management in most areas. FTA is revising guidance and circulars, as appropriate, with an opportunity for public comment when necessary. FTA intends to release final versions of updated circulars covering the Section 5307, 5310, 5311, 5337, and 5339 programs in the fourth quarter of FY 2024.

II. FY 2024 Funding for FTA Programs

A. Funding Available Under the Consolidated Appropriations Act, 2024

A total of $20,855,886,844 was appropriated for FY 2024 including funding from the Consolidated Appropriations Act, 2024, as amended by the Further Consolidated Appropriations Act, 2024 (Pub. L. 118-47), and funding from advance appropriations.

Division F, Title I of the Consolidated Appropriations Act, 2024, appropriated $16,604,886,844 for FY 2024, providing the authorized $13.99 billion from the Mass Transit Account; $252.39 million in Transit Infrastructure Grants, including $20 million for the Urbanized Area Passenger Ferry program with $5 million set aside for low or no emission ferries and related infrastructure, $1.5 million for the Bus Testing program, $3.6 million for several research programs, $0.5 million to assist tribal governments under the National Rural Transportation Assistance Program, $20 million to the ferry service for rural communities program, and $206.8 million for Community Project/Congressionally Directed funding. The Consolidated Appropriations Act, 2024, also appropriated an additional $7.5 million for technical assistance, workforce development and training funding, $150 million for the Washington Metropolitan Area Transit Authority and $2.2 billion for the Capital Investment Grant Program. The Further Consolidated Appropriations Act, 2024, amended the Consolidated Appropriations Act, 2024, adding an additional $1 million for the Urbanized Area Passenger Ferry program.

In addition, IIJA provided $4.25 billion in advance appropriations for FY 2024, including $1.6 billion for Capital Investment Grants; $950 million for the State of Good Repair program, $1.05 billion for the Low or No Emission program, $50 million for the Enhanced Mobility of Seniors and Individuals with Disabilities Program, $350 million for the All Stations Accessibility Program; $50 million for the Electric or Low-Emitting Ferry Program; and $200 million for Ferry Service for Rural Communities.

Current funding availability for each grant program is identified in Section IV of this notice and in Table 1 located on FTA's FY 2024 Apportionment web page: https://www.transit.dot.gov/funding/apportionments/current-apportionments.

B. Oversight Takedown

As authorized by 49 U.S.C. 5338(c), the following oversight takedowns of FTA programs will be applied: 0.5 percent of Metropolitan and Statewide Planning funds, 0.75 percent of Urbanized Area Formula funds, 1 percent of Fixed Guideway Capital Investment Grants funds, 0.5 percent of Formula Grants for the Enhanced Mobility of Seniors and Individuals with Disabilities, 0.5 percent of Formula Grants for Rural Areas, 1 percent of State of Good Repair Formula funds, 0.75 percent for Grants for Buses and Bus Facilities, and 1 percent of Capital and Preventive Maintenance Projects for Washington Metropolitan Area Transit Authority funds. The funds are used to provide necessary oversight activities, such as oversight of the construction of any major capital project receiving Federal transit assistance; to conduct State Safety Oversight, drug and alcohol, civil rights, procurement systems, management, planning certification, and financial reviews and audits, as well as evaluations and analyses of recipient-specific problems and issues; to generally provide technical assistance and correct deficiencies identified in compliance reviews and audits; and to support FTA's administrative expenses.

Additionally, there remains a 2 percent administrative/oversight takedown from each of the advance appropriations provided under Division J, Title VIII of IIJA, except for the Capital Investment Grant takedown, which remains at 1 percent. One-half percent of the 2 percent is to be transferred to the U.S. DOT Office of the Inspector General (OIG).

C. Formula Apportionment Data and Methodology

1. Apportionment Tables

FTA published apportionment tables on its website for each program that reflect the full-year appropriations less oversight takedowns, as applicable. Tables displaying the funds available to eligible states, tribes, and urbanized areas have been posted to https://www.transit.dot.gov/funding/apportionments/current-apportionments. This website contains a page listing the apportionment and allocation tables for FY 2024, as well as links to prior year formula apportionment notices and tables and the National Transit Database and Census data used to calculate the FY 2024 apportionments.

2. National Transit Database and Census Data Used in the FY 2024 Apportionments

The calculations for Sections 5307, 5311, including 5311(j) (Tribal Transit), 5329, 5337, and 5339 programs rely on the most-recent transit service data reported to the National Transit Database (NTD), which at the time of apportionment was the 2022 report year. For the FY 2024 apportionments, FTA is reverting back to its prior pattern last used for the FY 2021 apportionments of utilizing the most recently validated transit service data available from the NTD, which in the case of FY 2024 apportionments is 2022 NTD data. Due to the impacts of the COVID-19 pandemic, for the FYs 2022 and 2023 apportionments, FTA allowed agencies to use either 2019 NTD data or 2020 NTD data (for the FY 2022 apportionments) and 2019 NTD or 2021 NTD data (for the FY 2023 apportionments), defaulting to the year with the higher vehicle revenue miles unless instructed otherwise by the reporting agency. In some cases where an apportionment is based on the age of the system, the age is calculated as of September 30, 2023, which was the last day before FY 2024 began. Any recipient or subrecipient of either Section 5307 or Section 5311 program funds is required to report to the NTD. All FTA grant recipients that own, operate, or manage transit capital assets must report their asset data to the NTD. Additionally, a number of transit operators report to the NTD on a voluntary basis. For the 2022 report year, the NTD collected data from 3,018 reporters. This count is comprised of 972 urban reporters (947 of which operated transit service and 331 of which also provided both urban and rural service), 1,308 rural transit providers, 138 Tribes (with 16 providing both rural and urban service), and 600 asset reporters. IIJA made a number of changes to NTD reporting requirements. FTA finalized the proposals in two Federal Register notices published on February 23, 2023 (88 FR 11506) and March 3, 2023 (88 FR 13497). Some of the changes took effect beginning in NTD Report Year (RY) 2023 or 2024, which corresponds to an agency's fiscal year, while others took effect in calendar year (CY) 2023.

The 2020 Census data was used to determine population and population density for Sections 5303, 5304, 5305, 5307 and 5339 as well as rural population and rural land area for Section 5311. The formulas for Sections 5307, 5311, and 5311(j) include tiers where funding is allocated on the basis of the number of persons living in poverty, and the Section 5310 formula program allocates funding on the basis of the population of older adults and people with disabilities. The Census Bureau no longer publishes decennial Census data on persons living in poverty and persons with disabilities. As a result, since FY 2013, FTA has been using the data for these populations available via the Census' American Community Survey (ACS). The NTD and Census data that FTA used to calculate the apportionments associated with this notice can be found on FTA's web page: https://www.transit.dot.gov/funding/apportionments/formula-apportionments-data.

The FY 2024 apportionments use data on low-income persons, persons with disabilities, and older adults from the most recent ACS data set, which was published in December 2023. As was the case in prior years, data on low-income persons comes from ACS Table B17024, “Age by Ratio of Income to Poverty Level in the Last Twelve Months,” and data on people with disabilities under 65 years old comes from ACS Table B18101, “Sex by Age by Disability Status.”

III. FY 2024 Highlights and Updates

A. Highlights

1. Safety—PTASP and Safety Committees

IIJA amended FTA's safety program at 49 U.S.C. 5329(d) by adding to the Public Transportation Agency Safety Plans (PTASP) requirements. These changes apply to transit agencies that must have an Agency Safety Plan (ASP) under the PTASP regulation, 49 CFR part 673. The changes require a transit agency that receives Section 5307 funding and serves a large urbanized area (an urbanized area with a population of 200,000 or more) to establish a Safety Committee consistent with 49 U.S.C. 5329(d)(5). The transit agency must certify, through its Certifications and Assurances, that its Safety Committee approved the ASP or any updates to the ASP prior to approval by the Board of Directors or equivalent entity. FTA updated 49 CFR part 673 with new requirements that implement the statutory changes. The final rule was published on April 11, 2024 (88 FR 25694) and is effective May 13, 2024.

The Safety Committee also is responsible for, at a minimum: (1) identifying and recommending risk-based mitigations or strategies necessary to reduce the likelihood and severity of consequences identified through the agency's safety risk assessment; (2) identifying mitigations or strategies that may be ineffective, inappropriate, or were not implemented as intended; and (3) identifying safety deficiencies for purposes of continuous improvement.

IIJA also amended 49 U.S.C. 5329(d)(1)(B) to require a transit agency serving a small urbanized area (an urbanized area with a population of fewer than 200,000) to review and update its ASP in cooperation with frontline employee representatives. Transit agencies serving a small urbanized area are required to certify, through their Certifications and Assurances, that their ASP was developed or updated in cooperation with frontline worker representatives prior to approval by the Board of Directors or equivalent entity.

FTA monitors these certifications in its Transit Award Management System (TrAMS). FTA integrated the IIJA changes to PTASP requirements into the Triennial and State Management Review processes in 2023. Failure to comply with a requirement of the regulation subjects a grantee to a range of FTA enforcement options depending upon the circumstances, including, but not limited to, actions authorized by the Public Transportation Safety Program (Section 5329) and the Uniform Administrative Requirements, Cost Principles, and Audit Requirements for Federal Awards (2 CFR 200.339-200.340). Enforcement actions may include a recipient being ineligible to receive certain FTA grant funds until the recipient satisfies the requirements of the regulation, or FTA imposing more frequent reporting requirements until the recipient achieves compliance. FTA has additional resources and information available on its PTASP landing page: https://www.transit.dot.gov/PTASP.

Some FTA grant programs, including FTA's Urbanized Area Formula Program, the Formula Grants for Rural Areas Program, State of Good Repair Program, and Bus and Bus Facilities Program, can support safety and security projects, including mitigations to address assaults on transit workers, and cybersecurity activities. Additional information is available on FTA's landing pages:

• Using SMS to Protect Transit Workers from Assaults https://www.transit.dot.gov/regulations-and-programs/safety/using-your-safety-management-system-sms-protect-transit-workers.

• Enhanced Transit Safety and Crime Prevention Initiative https://www.transit.dot.gov/regulations-and-programs/safety/enhanced-transit-safety-and-crime-prevention-initiative.

• Cybersecurity Resources for Transit Agencies https://www.transit.dot.gov/regulations-and-programs/safety/cybersecurity-resources-transit-agencies.

2. Census Urbanized Areas Designations

On December 29, 2022, the Census Bureau announced final urban area designations based on the 2020 Census (87 FR 80114). FTA program eligibility and funding distribution is determined in part by service provision and demographics in both urbanized and non-urbanized areas. The 2020 Census delineations are now being used for FTA formula and discretionary apportionments beginning in FY 2024. FTA has additional resources and information available on its Census landing page, https://transit.dot.gov/census.

3. Flexible Funding

The upcoming Federal Highway Administration's (FHWA) August Redistribution is an opportunity for States to flex funds from FHWA to FTA to support transit projects. During the August Redistribution that starts in July 2024, FHWA provides States with the opportunity to fund additional projects, including flexible funding for transit projects. State Departments of Transportation (State DOTs) and Metropolitan Planning Organizations should consider discussing current transit needs and flex funding opportunities to support transit capital activities.

For examples of prior year uses of flex funding for transit projects, see Table 25 of the Statistical Summaries at https://www.transit.dot.gov/funding/grants/fy-2021-statistical-summary. Other FTA flexible funding resources can be found at the following sites: https://www.planning.dot.gov/flex.aspx and https://www.transit.dot.gov/funding/grants/grant-programs/flexible-funding-transit-and-highway-improvements.

B. Updates

1. Expanded Pre-Award Authority for Small Starts Projects

FTA is expanding automatic pre-award authority for Small Starts projects. Upon completion of the environmental review process and confirmation from FTA that the overall project rating is at least a Medium, in addition to pre-award authority for vehicle purchases, FTA now also will extend pre-award authority for any remaining engineering and design, demolition, and procurement of long lead items for which market conditions play a significant role in the acquisition price. The long lead items include, but are not limited to, procurement of rails, ties, and other specialized equipment, and commodities. See Section V.A.4 Pre-Award Authority for the Fixed Guideway Capital Investment Grants Program.

2. FY 2024 Competitive Program Updates

FTA's competitive grant programs and the FY 2024 appropriated funding levels are identified in the chart below. FTA selects projects for funding after issuance of a Notice of Funding Opportunity (NOFO).

Program/competitive grant title | Statute 49 U.S.C. | FY 2024 funding appropriated | Proposed or actual NOFO publication | Application due date and comments
Transit-Oriented Development Planning Pilot Program | MAP-21 Section 20005(b), IIJA Section 30009 | $13,782,778 | Summer 2024 | TBA.
Buses & Bus Facilities Competitive Program and Low or No Emission Program | Section 5339(b) and (c) | $390,045,823 (Bus) $1,103,963,762 (Low/No) | February 8, 2024 | April 25, 2024.
Tribal Transit Grants | Section 5311(c)(2)(A) | $9,169,076 | Summer 2024 | TBA.
Passenger Ferry Grants, Electric or Low-Emitting Ferry Program, Ferry Service for Rural Communities | Section 5307 and IIJA Sections 71102 and 71103 | $316,000,000 | April 17, 2024 | June 17, 2024.
Innovative Coordinated Access & Mobility | FAST Act Section 3006(b) | $9,525,190 | November 15, 2023 | February 13, 2024.
All Stations Accessibility Program | IIJA Division J | $343,000,000 | November 30, 2023 | January 30, 2024.
Competitive Grants for Rail Vehicle Replacement | Section 5337 | $196,906,663 (FY24) $300,000,000 (FY25) $133,949,678 (FY26) | Project selections were announced for remaining FY24 funding, all of FY25 funding, and part of FY26 funding in February 2024.

IV. Program Information

A. Metropolitan Planning Program (49 U.S.C. 5303 and 5305(d))

Section 5305(d) makes available Federal funding to support a cooperative, continuous, and comprehensive planning program for transportation investment decision-making at the metropolitan area level. The specific requirements of metropolitan transportation planning are set forth in 49 U.S.C. 5303 and in 23 CFR part 450, as incorporated by reference in 49 CFR part 613, Metropolitan and Statewide and Nonmetropolitan Planning. State Departments of Transportation (DOTs) are direct recipients of planning funds allocated by FTA, and the funds are then sub-allocated to Metropolitan Planning Organizations (MPOs) for planning activities that enhance the integration and connectivity of the transportation system, across and between modes and support the economic vitality of the metropolitan area.

The metropolitan transportation planning process must establish a performance-based approach in which the MPO will develop specific performance targets that address transportation system performance measures (issued by U.S. DOT), where applicable, to use in tracking progress towards attaining critical outcomes. These performance targets will be established by MPOs in coordination with States and transit providers. MPOs will provide a system performance report that evaluates the progress of the MPO in meeting the performance targets in comparison with the system performance identified in prior reports.

This funding must support work elements and activities resulting in comprehensive intermodal transportation planning for the movement of people and goods in the metropolitan area. Comprehensive transportation planning is not limited to transit planning or surface transportation planning but also encompasses the relationships among land use and all transportation modes, without regard to the programmatic source of Federal assistance. A representative list of eligible work elements or activities is provided in FTA Circular 8100.1D, “Program Guidance for Metropolitan Planning and State Planning and Research Program Grants,” dated September 10, 2018.

IIJA amended 49 U.S.C. 5305(f) to require a Federal share of not less than 90 percent for certain activities under the Metropolitan Planning Program (MPP) and the State Planning and Research Program (SPRP). Eligible recipients seeking an increased Federal share under 49 U.S.C. 5305(f)(2) must demonstrate that planning activities support increased mobility through expanded access to public transportation in areas with a lower population density or a lower average income in relationship to surrounding areas. In addition, on March 13, 2023, pursuant to 49 U.S.C. 5305(f)(1)(A), FTA approved a waiver of the non-Federal match for the MPP and the SPRP funds for Complete Streets planning activities conducted by States and MPOs in their transportation planning processes. The non-Federal match waiver for MPP and SPRP funds is limited to Complete Streets planning activities as identified in IIJA, section 11206(c). The waiver of the non-Federal share for Complete Streets planning activities will end once a State or MPO receives approval from FHWA to opt out of meeting the requirements described in IIJA, section 11206(c). Once a State or MPO opts out, they must notify FTA.

For more about the Metropolitan Planning Program, contact Ryan Long, Office of Planning and Environment at (202) 366-6466 or ryan.long@dot.gov.

1. Authorized Amounts

IIJA authorized $799 million over five years to provide financial assistance for metropolitan planning needs under Section 5303.

2. FY 2024 Funding Availability

Under the Consolidated Appropriations Act, 2024, $160,002,736 is available to the Metropolitan Planning Program (Section 5305(d) and (f)) to support metropolitan transportation planning activities set forth in Section 5303. The total amount apportioned for the Metropolitan Planning Program to States for use by MPOs is $159,203,874 as shown in the table below, after the deduction for oversight and the addition of reapportioned funds.

Metropolitan Planning Program—FY2024
Total FY 2024 Appropriation Available | $160,002,736
Oversight Deduction | (800,013)
Reapportioned Funds | 1,151
Total Apportioned | 159,203,874

3. Basis for Formula Apportionment

Of the amounts authorized in Section 5305, 82.72 percent is made available to the Metropolitan Planning Program. Eighty percent of those funds are apportioned on a statutory basis to the States based on the most recent decennial Census for each State's UZA population. The remaining 20 percent is provided to the States based on an FTA administrative formula to address planning needs in larger, more complex UZAs. The amount published for each State includes this supplemental allocation.

4. Requirements

The State allocates Metropolitan Planning funds to MPOs in UZAs or portions thereof to provide funds for planning projects included in a one- or two-year program of planning work activities (the Unified Planning Work Program, or UPWP) that includes multimodal systems planning activities spanning both highway and transit planning topics. Each State has either reaffirmed or developed, in consultation with their MPOs, an allocation formula among MPOs within the State, based on the 2020 Census. The allocation formula among MPOs in each State may be changed annually, but any change requires approval by the FTA Regional Office before grant approval. Program guidance for the Metropolitan Planning Program is found in FTA Circular 8100.1D.

5. Period of Availability

The Metropolitan Planning Program funds apportioned in this notice are available for obligation during FY 2024 plus three additional fiscal years. Accordingly, funds apportioned in FY 2024 must be obligated in grants by September 30, 2027. Any FY 2024 apportioned funds that remain unobligated at the close of business on September 30, 2027, will revert to FTA for reapportionment under the Metropolitan Planning Program.

B. State Planning and Research Program (49 U.S.C. 5304 and 5305(e))

This program provides financial assistance to States for statewide transportation planning and other technical assistance activities, including supplementing the technical assistance program provided through the Metropolitan Planning Program. State Departments of Transportation (DOTs) are direct recipients of State Planning and Research Program (SPRP) funds allocated by FTA, for planning activities that enhance the integration and connectivity of the transportation system, across and between modes throughout the State and support the economic vitality of the nonmetropolitan and metropolitan area. The specific requirements of Statewide transportation planning are set forth in 49 U.S.C. 5304 and in 23 CFR part 450, as incorporated by reference in 49 CFR part 613, Metropolitan and Statewide and Nonmetropolitan Planning. State DOTs are required to reference performance measures and performance targets within the Statewide Planning process. SPRP funding must support work elements and activities resulting in comprehensive intermodal transportation planning for the movement of people and goods and has the same eligibilities as metropolitan planning funds. Comprehensive transportation planning is not limited to transit planning or surface transportation planning but also encompasses the relationships among land use and all transportation modes, without regard to the programmatic source of Federal assistance.

The IIJA amended 49 U.S.C. 5305(f) to require a Federal share of not less than 90 percent for certain activities under the Metropolitan Planning Program (MPP) and the SPRP. Eligible recipients seeking an increased Federal share under 49 U.S.C. 5305(f)(2) must demonstrate that planning activities support increased mobility through expanded access to public transportation in areas with a lower population density or a lower average income in relationship to surrounding areas. In addition, on March 13, 2023, pursuant to 49 U.S.C. 5305(f)(1)(A), FTA approved a waiver of the non-Federal match for the MPP and the SPRP funds for Complete Streets planning activities conducted by States and MPOs in their transportation planning processes. The non-Federal match waiver for MPP and SPRP funds is limited to Complete Streets planning activities as identified in IIJA, section 11206(c). The waiver of the non-Federal share for Complete Streets planning activities will end once a State or MPO receives approval from FHWA to opt out of meeting the requirements described in IIJA, section 11206(c). Once a State or MPO opts out, they must notify FTA.

For more information, contact Ryan Long, Office of Planning and Environment at (202) 366-6466 or ryan.long@dot.gov.

1. Authorized Amounts

IIJA authorized $167 million over five years to provide financial assistance for statewide planning and other technical assistance activities under Section 5304.

2. FY 2024 Funding Availability

In FY 2024, $33,424,169 is available to the SPRP (Section 5305(e) and (f)). The total amount apportioned for the SPRP is $33,257,048 as shown in the table below, after the deduction for oversight.

Statewide Planning Program—FY 2024
Total Appropriation | $33,424,169
Oversight Deductions | (167,121)
Total Apportioned | 33,257,048

States' apportionments for this program are displayed in Table 2 on the apportionments page on FTA's website: https://www.transit.dot.gov/funding/apportionments/current-apportionments.

3. Basis for Formula Apportionment

Of the amount authorized in Section 5305, 17.28 percent is allocated to the SPRP. FTA apportions these funds to States by a statutory formula that is based on the most recent decennial Census data available, and the State's UZA population as compared to the UZA population of all States.

4. Requirements

Funds are provided to States for Statewide transportation planning programs. These funds may be used for a variety of statewide and nonmetropolitan transportation planning purposes such as developing transportation plans and programs, planning and evaluating public transportation projects, and conducting technical studies as documented in a statewide planning work program. In addition, a State may authorize a portion of these funds to be used to supplement Metropolitan Planning funds allocated by the State to its UZAs, as the State deems appropriate. Program guidance for the State Planning and Research program is found in FTA Circular 8100.1D.

5. Period of Availability

The SPRP funds apportioned in this notice are available for obligation during FY 2024 plus three additional fiscal years. Accordingly, funds apportioned in FY 2024 must be obligated in grants by September 30, 2027. Any FY 2024 apportioned funds that remain unobligated at the close of business on September 30, 2027, will revert to FTA for reapportionment under the SPRP.

C. Urbanized Area Formula Program (49 U.S.C. 5307)

The Urbanized Area Formula Program provides Federal assistance for capital, planning, job access and reverse commute projects, and, in some cases, operating assistance for public transportation in urbanized areas. In accordance with 49 U.S.C. 5302, an urbanized area (UZA) is an Urban Area, as defined and designated as such by the U.S. Census Bureau, with a population of 50,000 or more. Program funds are apportioned to urbanized areas through a statutory formula. In addition, $30 million is authorized each year under this program to passenger ferry projects through a discretionary funding competition.

For more information about the Urbanized Area Formula Program, contact Bret Martin with the Office of Transit Programs, at (202) 366-0870 or bret.martin@dot.gov.

1. Authorized Amounts

IIJA authorized $33.5 billion over five years to provide financial assistance for urbanized areas under Section 5307. Of the amounts authorized for Section 5307 in each year, $30 million is set aside for the competitive discretionary Passenger Ferry Grant Program, 0.75 percent is apportioned to eligible States for State Safety Oversight (SSO), and 0.75 percent is set aside for oversight.

2. FY 2024 Funding Availability

Under the Consolidated Appropriations Act, 2024, $6,712,987,840 is available for the Urbanized Area Formula program. The total amount apportioned is $7,245,004,560 after deductions for the State Safety Oversight Program, Passenger Ferry Program, and oversight and the addition of Section 5340 and reapportioned funds as shown in the table below.

Urbanized Area Formula Program—FY 2024
Total Appropriation | $6,712,987,840
Oversight Deductions | (50,347,409)
State Safety Oversight Program | (50,347,409)
Passenger Ferry Program | (30,000,000)
Section 5340 High Density States | 364,850,518
Section 5340 Growing States | 293,849,520
Reapportioned Funds | 4,011,500
Total Apportioned | 7,245,004,560

3. Basis for Formula Apportionment

FTA apportions Urbanized Area Formula Program funds based on statutory formulas. Congress established four separate formulas that are used to apportion the available funding: the Section 5307 Urbanized Area Formula Program formula, the Small Transit Intensive Cities (STIC) formula, the Growing States and High-Density States formulas (Section 5340), and a formula based on low-income population.

a. Section 5307—Urbanized Area Formula

For UZAs between 50,000 and 199,999 in population, the Section 5307 formula is based on population and population density. For UZAs with populations of 200,000 and more, the formula is based on a combination of bus vehicle revenue miles, bus passenger miles, bus operating costs, fixed guideway vehicle revenue miles, fixed guideway directional route miles, and fixed guideway operating costs, as well as population and population density. The Urbanized Area Formula is defined in 49 U.S.C. 5336.

To calculate a UZA's FY 2024 apportionment, FTA used population and population density statistics from the 2020 Census and validated mileage and transit service data from transit providers' 2022 National Transit Database (NTD) Report Year. Consistent with Section 5336(b), FTA has included 27 percent of the fixed guideway directional route miles and vehicle revenue miles from eligible urbanized area transit systems, but which were attributable to rural areas outside of the urbanized areas from which the system receives funds. FTA has calculated dollar unit values for the formula factors used in the Urbanized Area Formula Program apportionment calculations. These values represent the amount of money each unit of a factor is worth in this year's apportionment. The unit values change each year based on all of the data used to calculate the apportionments, the amount appropriated by Congress for the apportionment, as well as the amount of prior-year funds to be reapportioned. The dollar unit values for FY 2024 are displayed in Table 5 of the apportionments page on FTA's website, https://www.transit.dot.gov/funding/apportionments/current-apportionments. To replicate the basic formula component of a UZA's apportionment, multiply the dollar unit value by the appropriate formula factor (i.e., the population, population x population density), and when applicable, data from the NTD (i.e., directional route miles, vehicle revenue miles, passenger miles, and operating cost).

b. Small Transit Intensive Cities Formula (STIC)

Under the STIC formula, FTA apportions 3 percent of the funds made available for Section 5307 to UZAs that are under 200,000 in population and have public transportation service that operates at a level equal to or above the industry average for UZAs with a population of at least 200,000, but not more than 999,999. STIC funds are apportioned on the basis of one or more of six performance categories: passenger miles traveled per vehicle revenue mile, passenger miles traveled per vehicle revenue hour, vehicle revenue miles per capita, vehicle revenue hours per capita, passenger miles traveled per capita, and passengers per capita.

The data used to determine a UZA's eligibility under the STIC formula and to calculate the STIC apportionments was obtained from the NTD. Because performance data change with each year's NTD reports, the UZAs eligible for STIC funds and the amount each receives may vary each year. UZAs that received funding through the STIC formula for FY 2024 are listed in Table 6 of the apportionments page on FTA's website, https://www.transit.dot.gov/funding/apportionments/current-apportionments.

c. Section 5340—Growing States and High-Density States Formula

FTA also apportions funds to qualifying UZAs and States according to the Section 5340 Growing States and High-Density States formula, as shown in Table 3 of the apportionments page on FTA's website, https://www.transit.dot.gov/funding/apportionments/current-apportionments. More information on this program and its formula is found in Section IV.P. of this notice.

d. Low-Income Population

Of the amount authorized and appropriated for the Urbanized Area Formula Program in each year, 3.07 percent is apportioned on the basis of low-income population.

As specified in statute, FTA apportions 75 percent of the available funds to UZAs with a population of 200,000 or more. Funds are apportioned based on the ratio of the number of low-income individuals in each UZA to the total number of low-income individuals in all urbanized areas of that size. FTA apportions the remainder of the funds (25 percent) to UZAs with populations of less than 200,000, according to an equivalent formula. The low-income populations used for this calculation were based on the American Community Survey (ACS) data set for 2018-2022. This information is updated by the Census Bureau annually.

4. Eligible Expenses

Eligible activities include planning, engineering, design and evaluation of transit projects and other technical transportation-related studies; capital investments in bus and bus-related activities such as replacement, overhaul and rebuilding of buses; crime prevention and security equipment; construction of maintenance and passenger facilities; and capital investments in new and existing fixed guideway systems, including rolling stock, overhaul and rebuilding of vehicles, track, signals, communications, and computer hardware and software. All preventive maintenance and some Americans with Disabilities Act complementary paratransit service costs are considered capital costs. For urbanized areas with populations less than 200,000, operating assistance is an eligible expense. In areas with a population of 200,000 or more, operating assistance is an eligible expense for an applicant that operates a maximum of 100 buses during peak service hours, per 49 U.S.C. 5307(a)(2) (the “100-bus rule”). Job access and reverse commute activities remain eligible under the program.

In addition, recipients may use up to one-half of one percent of their Section 5307 funds to support workforce development activities, including supportive services, at an 80 percent Federal share; the eligible workforce development activities are defined in Section 5314; see Section IV.K. of this notice for more information. This provision is in addition to the one-half of one percent that a recipient may use for training activities with the National Transit Institute.

5. Requirements

Program guidance for the Urbanized Area Formula Program is found in FTA Circular 9030.1E, “Urbanized Area Formula Program: Program Guidance and Application Instructions,” dated January 16, 2014, and is supplemented by additional information and changes provided in this notice and that may be posted to the FTA's Section 5307 web page.

6. Period of Availability

Funds made available under Section 5307 are available for obligation during the year of apportionment plus five additional years. Accordingly, funds apportioned in FY 2024 must be obligated in grants by September 30, 2029. Any FY 2024 apportioned funds that remain unobligated at the close of business on September 30, 2029, will revert to FTA for reapportionment under the Urbanized Area Formula Program.

D. Fixed Guideway Capital Investment Grants Program (49 U.S.C. 5309)

The Capital Investment Grants (CIG) Program includes three types of eligible projects—New Starts projects, Small Starts projects, and Core Capacity Improvement projects. Funding is provided for construction of: (1) new fixed guideway systems or extensions to existing fixed guideway systems such as rapid rail (heavy rail), commuter rail, light rail, trolleybus (using overhead catenary), cable car, passenger ferries, and bus rapid transit operating on an exclusive transit lane for the majority of the corridor length that also includes features that emulate the services provided by rail fixed guideway including defined stations, traffic signal priority for public transit vehicles, and short headway bi-directional service for a substantial part of weekdays and weekends; (2) corridor-based bus rapid transit service that does not operate on an exclusive transit lane but includes features that emulate the services provided by rail fixed guideway including defined stations, traffic signal priority for public transit vehicles, and short headway bi-directional services for a substantial part of weekdays; and (3) projects that expand the capacity by at least 10 percent of an existing fixed guideway corridor that is at capacity today or will be in 10 years.

Projects become candidates for funding under the Capital Investment Grants program by successfully completing steps in the multi-year process defined in Section 5309 and obtaining a satisfactory rating under the statutorily defined criteria. For New Starts and Core Capacity Improvement projects, the steps in the process include project development, engineering, and construction. For Small Starts projects the steps in the process include project development and construction. New Starts and Core Capacity Improvement projects receive construction funds from the program through a full funding grant agreement (FFGA) that defines the scope of the project and specifies the total multi-year Federal commitment to the project. Small Starts projects receive construction funds through a single year grant or an expedited grant agreement that defines the scope of the project and specifies the Federal commitment to the project.

Bundles of CIG projects, comprised of multiple New Starts, Core Capacity, or Small Starts projects being pursued by the same project sponsor, are also allowed. Bundles must enhance or increase the capacity of the transportation system and streamline procurements or enable time or cost savings for the projects.

For more information about the Capital Investment Grants program contact Susan Eddy, Office of Capital Project Development, at (202) 366-5499 or susan.eddy@dot.gov. For information about published allocations contact Elizabeth Day, Office of Planning and Environment, at (202) 366-5159 or Elizabeth.day@dot.gov.

1. Authorized Amounts

IIJA authorized $15 billion to be appropriated over five years for the CIG program and the Expedited Project Delivery Pilot Program (EPD), with an additional $8 billion in advance appropriations.

2. FY 2024 Funding Availability

For FY 2024, $3,805,000,000 is available for the Capital Investment Grants (CIG) Program and the FAST Act Section 3005(b) Expedited Project Delivery Pilot Program under the Consolidated Appropriations Act, 2024 and the IIJA advance appropriations. The total amount available for projects is $3,766,950,000 as shown in the table below, after the deduction for oversight.

Capital Investment Grant Program—FY 2024
Total Appropriation | $3,805,000,000
Oversight Deduction | (38,050,000)
Total Apportioned | 3,766,950,000

3. Basis for Allocation

CIG Funds are allocated on a discretionary basis and subject to program evaluation.

4. Eligible Expenses

See beginning of Section D above.

5. Requirements

Project sponsors should reference the FTA website at https://www.transit.dot.gov/funding/grant-programs/capital-investments/final-capital-investment-grant-program-interim-policy for the most current Capital Investment Grants program policy guidance to learn what is required to enter and advance through the program. Grant-related guidance is found in FTA Circular 9300.1B, “Capital Investment Grant Program Guidance and Application Instructions,” dated November 1, 2008; and C5200.1A, “Full Funding Grant Agreement Guidance,” dated December 5, 2002.

6. Period of Availability

Funding is available for four years, which is the fiscal year in which the amount is allocated to a project plus three additional years. Therefore, funds for a project allocated funding in FY 2024 must be obligated for the project by September 30, 2027. Section 5309 funds that remain unobligated after four fiscal years to the projects for which they were originally designated may be made available for other Section 5309 projects.

E. Enhanced Mobility of Seniors and Individuals With Disabilities Program (49 U.S.C. 5310)

The Enhanced Mobility of Seniors and Individuals with Disabilities Program provides formula funding apportioned to direct recipients: States for rural (population under 50,000) and small urbanized areas (population from 50,000 to 199,999); and designated recipients chosen by the Governor of the State for large urbanized areas (populations of 200,000 or more); or a State or local governmental entity that operates a public transportation service. The Section 5310 program provides capital and operating assistance to improve mobility for older adults and people with disabilities by removing barriers to transportation service and expanding transportation mobility options. This program supports transportation services planned, designed, and carried out to meet the transportation needs of older adults and people with disabilities.

This program provides funds for capital and operating assistance for: (1) public transportation to meet the needs of older adults and people with disabilities when public transportation is insufficient, inappropriate, or unavailable; (2) public transportation projects that exceed the requirements of the Americans with Disabilities Act (ADA); (3) public transportation projects that improve access to fixed-route service and decrease reliance on complementary paratransit; and (4) alternatives to public transportation that meet the transportation needs of older adults and people with disabilities.

Section 5310 funds are available for capital and operating expenses to support the provision of transportation services to meet the specific needs of older adults and people with disabilities. Additional information on eligible expenses can be found in FTA Circular 9070.1G, “Enhanced Mobility of Seniors and Individuals with Disabilities Program Guidance and Application Instructions,” dated July 7, 2014.

For more information about the Section 5310 program, contact Destiny Buchanan, Office of Transit Programs, at (202) 493-8018 or destiny.buchanan@dot.gov.

1. Authorized Amounts

IIJA authorized $1.9 billion over five years for the Enhanced Mobility of Seniors and Individuals with Disabilities formula program, with an additional $250 million provided in advance appropriations.

2. FY 2024 Funding Availability

In FY 2024, $438,899,052 is appropriated for the program. A total of $438,190,064 is available for allocation after the oversight and administrative deduction, transfer to the U.S. DOT Office of Inspector General, and addition of reapportioned funds as shown in the table below.

Section 5310 Formula Program—FY 2024
Total Appropriation | $438,899,052
Oversight and Administrative | (2,939,495)
Transfer to OIG | (5,000)
Reapportioned to Large UZA | 1,881,680
Reapportioned to Small UZA | 287,337
Reapportioned to Rural Areas | 66,490
Total Apportioned | 438,190,064

3. Basis for Formula Apportionment

Sixty percent of the funds are apportioned among designated recipients for urbanized areas with a population of 200,000 or more individuals. Twenty percent of the funds are apportioned among the States for their urbanized areas with a population of at least 50,000 but less than 200,000. Twenty percent of the funds are apportioned among the States for rural areas with a population of less than 50,000. Census Data on Older Adults and People with Disabilities is used for the Section 5310 Enhanced Mobility of Seniors and Individuals with Disabilities Apportionments. Table 8, which displays the amounts apportioned under the Enhanced Mobility of Seniors and Individuals with Disabilities Program can be viewed at https://www.transit.dot.gov/funding/apportionments/table-8-fy-2024-section-5310-enhanced-mobility-seniors-and-individuals-0.

Under the Section 5310 formula, funds are allocated using Census data on seniors (i.e., persons 65 and older) and people with disabilities. However, beginning in 2010, the Census Bureau stopped collecting this demographic information as part of its decennial census. Data on seniors and people with disabilities is now only available from the American Community Survey (ACS), which is conducted and published on a rolling basis. FTA's FY 2024 Section 5310 apportionments incorporate ACS data published in December 2023, which is the most-recent data available. Data on seniors and persons with disabilities comes from the ACS 2018-2022 five-year data set, Table B18101, “Sex by Age by Disability Status.”

4. Requirements

Eligible direct recipients include States for rural and small urbanized areas and designated recipients chosen by the Governor of the State for large urbanized areas. Federally recognized Indian tribes and State or local governmental entities that operate a public transportation service are also eligible direct recipients.

Eligible subrecipients include private nonprofit organizations, and State or local governmental authorities approved by a State to coordinate services for older adults and people with disabilities, or State or local governmental authorities which certify to the Governor that no nonprofit organizations or associations are readily available in an area to provide the service, or an operator of public transportation.

Of the amounts apportioned to States and designated recipients, not less than 55 percent of funds must be used for “traditional” Section 5310 projects—those public transportation capital projects planned, designed, and carried out to meet the specific needs of seniors and individuals with disabilities when public transportation is insufficient, unavailable, or inappropriate. Up to 45 percent of an area's apportionment may be used for additional public transportation projects that: are planned, designed, and carried out to meet the needs of seniors and individuals with disabilities when public transportation is insufficient, unavailable, or inappropriate; exceed the Americans with Disabilities Act minimum requirements; improve access to fixed-route service and decrease reliance by individuals with disabilities on ADA complementary paratransit service; or provide alternatives to public transportation that assist seniors and individuals with disabilities with transportation.

All projects funded under this program must be included in a locally developed, coordinated public transit-human service transportation plan.

5. Period of Availability

For Enhanced Mobility of Seniors and Individuals with Disabilities Program funds apportioned under this notice, the period of availability is the year of apportionment plus two additional years. Accordingly, funds apportioned in FY 2024 must be obligated in grants by September 30, 2026. Any FY 2024 apportioned funds that remain unobligated at the close of business on September 30, 2026, will revert to FTA for reapportionment among the States and urbanized areas.

6. Other Program Highlights

Recipients may use a competitive selection process to select projects, but it is not required. A State may transfer funds apportioned to small urbanized areas and rural areas to other parts of the State if it can certify that the needs are being met in the area to which the funds were originally apportioned. Funds may not be transferred out of a large urbanized area. Funds apportioned to large urbanized areas may not be used outside the urbanized area to which they were apportioned.

Transit service providers receiving Section 5310 funds may coordinate and assist in providing meal delivery services on a regular basis as long as this does not conflict with the provision of transit services.

Additional information about the requirements for the Section 5310 program can be found in FTA Circular 9070.1G, “Enhanced Mobility of Seniors and Individuals with Disabilities Program Guidance and Application Instructions,” dated July 7, 2014.

F. Formula Grants for Rural Areas Program (49 U.S.C. 5311)

The Rural Areas Program provides formula funding to States and federally recognized Indian tribes for the purpose of supporting public transportation in areas with a population of less than 50,000. Funding may be used for capital, operating, planning, job access and reverse commute projects, and State administration expenses. Eligible subrecipients include State and local governmental authorities, Indian Tribes, private non-profit organizations, and private operators of public transportation services, including intercity bus companies. Indian Tribes are eligible direct recipients under Section 5311, both for funds apportioned to the States and for projects apportioned or selected to be funded with funds set aside for a separate Tribal Transit Program.

For more information about the Formula Grants for Rural Areas program, contact Matt Lange, Office of Transit Programs, at (312) 353-4118 or matthew.lange@dot.gov.

1. Authorized Amounts

IIJA authorized $4.6 billion over five years to provide financial assistance by formula for rural areas under Section 5311 and three other programs: the Rural Transit Assistance Program (RTAP); the Appalachian Development Public Transportation Assistance Program; and the Tribal Transit Program. These separate programs are described in the Sections that follow.

2. FY 2024 Funding Availability

Under the Consolidated Appropriations Act, 2024, $825,216,831 is available for formula grants within the Rural Area Formula Program. The total amount apportioned to the program is $938,673,323 as shown in the table below, after the addition of Section 5340 Growing States, reapportioned funds and the oversight deduction.

Grants for Rural Areas Formula Program—FY 2024
Total FY 2024 Appropriation | $825,216,831
Oversight Deduction | (4,584,538)
Section 5340 Growing States | 117,577,660
Reapportioned Funds | 463,370
Total Apportioned | 938,673,323

3. Basis for Formula Apportionment

FTA apportions Section 5311 funds to the States by a statutory formula. The majority of rural formula funds (83.15 percent) are apportioned based on land area and population factors. In this first tier, no state may receive more than 5 percent of the amount apportioned on the basis of land area. The remaining rural formula funds (16.85 percent) are apportioned based on land area, vehicle revenue miles, and low-income population factors. In this second tier, no State may receive more than 5 percent of the amount apportioned on the basis of land area, or more than 5 percent of the amounts apportioned for vehicle revenue miles. In addition to funds made available under Section 5311, FTA adds amounts apportioned based on rural population according to the Growing States formula factors of 49 U.S.C. 5340 to the amounts apportioned to the States under the Section 5311 formula. Before FTA apportions Section 5311 funds to the States, FTA subtracts funding from the total available amounts for the Appalachian Development Transportation Assistance Program, the Tribal Transit Program, the Rural Transportation Assistance Program (RTAP), and FTA oversight activities.

Data from the Rural Module of the National Transit Database (NTD) was used for this apportionment, including data from directly reporting Indian tribes. Data from public transportation systems that reported to the Annual (Urbanized Area) Module, and not attributable to an urbanized area, was also included.

4. Requirements

The Section 5311 program provides funding for capital, operating, planning, job access and reverse commute projects, and administration expenses for public transit service in rural areas under 50,000 in population. The planning activities undertaken with Section 5311 funds are in addition to those awarded to the State under Section 5305 and must be used specifically for rural areas' needs.

a. Intercity Bus Transportation

Each State must spend no less than 15 percent of its annual Rural Areas Formula apportionment for the development and support of intercity bus transportation, unless it can certify, after consultation with affected intercity bus service providers, that the intercity bus service needs of the State are adequately being met.

b. State Administration

States may elect to use up to 10 percent of their apportionment at 100 percent Federal share to administer the Section 5311 program and provide technical assistance to subrecipients.

c. Eligibility for Safety Certification Training

Recipients of Section 5311 funds are permitted to use not more than 0.5 percent of their formula funds under the Rural Areas program to pay not more than 80 percent of the cost of participation for an employee who is directly responsible for safety oversight to participate in public transportation safety certification training. Safety certification training program requirements are established in accordance with Section 5329.

The Federal share for capital assistance is 80 percent and for operating assistance is 50 percent, except that States eligible for the sliding scale match under FHWA programs may use that match ratio for Section 5311 capital projects and 62.5 percent of the sliding scale capital match ratio for operating projects.

Each State prepares an annual program of projects, which must provide for fair and equitable distribution of funds within the States, including Indian reservations, and must provide for maximum feasible coordination with transportation services assisted by other Federal sources.

Additional program guidance for the Rural Areas Program is found in FTA Circular 9040.1G, “Formula Grants for Rural Areas: Program Guidance and Application Instructions,” dated October 24, 2014, and is supplemented by additional information and changes provided in this notice and that may be posted to FTA's Section 5311 web page (https://www.transit.dot.gov/rural-formula-grants-5311).

5. Period of Availability

The Rural Areas program funds apportioned in this notice are available for obligation during FY 2024 plus two additional years. Any FY 2024 apportioned funds that remain unobligated at the close of business on September 30, 2026, will revert to FTA for reapportionment under the Rural Areas program.

G. Rural Transportation Assistance Program (49 U.S.C. 5311(b)(3))

The Rural Transportation Assistance Program (RTAP) provides funding to states to assist in the design and implementation of training and technical assistance projects, research, and other support services tailored to meet the needs of transit operators in rural areas.

The National Rural Transit Assistance Program (NRTAP) is administered through a cooperative agreement and re-competed at five-year intervals. In 2019, FTA awarded a cooperative agreement to Neponset Valley Transportation Management Association to administer NRTAP. NRTAP addresses the training and technical assistance needs of rural and tribal transit operators across the Nation and supports State RTAP programs. NRTAP's comprehensive set of free technical assistance programs and resources includes training materials, webinars, newsletters and technical briefs, peer resources, research, and innovative technology initiatives.

For more information about the Rural Transportation Assistance Program (RTAP) contact Matt Lange, Office of Transit Programs, at (312) 353-4118 or matthew.lange@dot.gov. For more information about the National Rural Transit Assistance Program (NRTAP) contact Heather Edmonds, Office of Transit Programs, at (202) 366-3748 or heather.edmonds@dot.gov.

1. Authorized Amounts

IIJA authorizes $91.6 million over five years to carry out this program. Of this amount, 15 percent is reserved for the National RTAP program.

2. FY 2024 Funding Availability

Under the Consolidated Appropriations Act, 2024, $18,338,152 is available for the RTAP. In FY 2024, besides the $2.75 million takedown for National RTAP, an additional $500,000 was appropriated for technical assistance to Tribes through National RTAP. The total amount apportioned for RTAP is $15,587,429 as shown in the table below, after the deduction for NRTAP.

Rural Transportation Assistance Program—FY 2024
Total Appropriation | $18,338,152
National RTAP | (2,750,723)
Total Apportioned | 15,587,429

State allocations are shown in Table 9 posted on FTA's website under the FY 2024 Apportionments page.

3. Basis for Formula Apportionment

FTA allocates funds to the States by an administrative formula. First, FTA allocates $65,000 to each State and Puerto Rico ($10,000 to territories), and then allocates the balance based on rural population.

4. Requirements

Eligible expenses include the design and implementation of training and technical assistance projects, research, and other support services tailored to meet the needs of transit operators in rural areas.

States may use the funds to undertake research, training, technical assistance, and other support services to meet the needs of transit operators in rural areas. These funds should be used in conjunction with a State's administration of the Rural Areas Formula Program and may also support the rural components of the Section 5310 program.

5. Period of Availability

The Section 5311 RTAP funds apportioned in this notice are available for obligation in FY 2024 plus two additional years, consistent with the Section 5311 program. Any FY 2024 apportioned funds that remain unobligated at the close of business on September 30, 2026, will revert to FTA for reapportionment under the Rural Areas program.

H. Appalachian Development Public Transportation Assistance Program (49 U.S.C. 5311(c)(3))

This program provides additional funding to support public transportation in the Appalachian region. There are 13 eligible States that receive an allocation under this provision. The States and their allocation are shown in Table 9 posted on FTA's website under the FY 2024 Apportionments page at https://www.transit.dot.gov/funding/apportionments.

For more information about the Appalachian Development Public Transportation Assistance (ADTAP) Program, contact Matt Lange, Office of Transit Programs, at (312) 353-4118 or matthew.lange@dot.gov.

1. Authorized Amounts

A total of $137.4 million is authorized over five years by the IIJA to support public transportation in the Appalachian region.

2. FY 2024 Funding Availability

Under the Consolidated Appropriations Act, 2024, $27,507,228 million is available. The total amount apportioned to the program is $27,549,026 as shown in the table below, after the addition of reapportioned funds.

Appalachian Development Public Transportation Assistance Program—FY 2024
Total FY 2024 Available | $27,507,228
Reapportioned Funds | 41,798
Total Apportioned | 27,549,026

3. Basis for Formula Apportionment

FTA apportions the funds using percentages established under section 9.5(b) of the Appalachian Regional Commission (ARC) Code (subtitle IV of title 40 U.S.C.). Allocations are based in general on each State's remaining estimated need to complete eligible Sections of the Appalachian Development Highway System as determined from the latest percentages of available cost estimates for completion of the System. Allocations contain upper and lower limits in amounts determined by the Commission and are made in accordance with legislative instructions. On October 3, 2023, section 9.5 (b) of the ARC Code was updated to reflect 2021 Cost-to-Complete Estimates. FTA's ADTAP allocations to States reflect the new basis of allocation and are reflected in the FY 2024 Apportionments.

4. Requirements

Funds apportioned under this program can be used for purposes consistent with Section 5311 to support public transportation in the Appalachian region. Funds can be applied for in the State's annual Section 5311 grant. States that are eligible for the ADTAP may use amounts that cannot be used for operating expenses for a highway project if the governor approves the use in writing after appropriate notice and an opportunity for comment and appeal are provided to affected public transportation providers in the Appalachian region. In order for FTA to consider the transfer to FHWA, a State must provide documentation to the FTA regional office that includes a description of the consultation used and certification by the local providers that all local operating needs are met. Additional information about the requirements for this Section can be found in Chapter VII of FTA Circular 9040.1G, “Formula Grants for Rural Areas: Program Guidance and Application Instructions,” dated October 24, 2014.

5. Period of Availability

Section 5311 Appalachian program funds are available the year of apportionment plus two additional years, consistent with the Section 5311 program. Any FY 2024 apportioned funds that remain unobligated at the close of business on September 30, 2026, will revert to FTA for reapportionment under the Rural Areas program.

I. Formula Grants for Public Transportation on Indian Reservations Program (49 U.S.C. 5311(j))

The Public Transportation on Indian Reservations Program or Tribal Transit Program (TTP) is funded as a takedown from the Section 5311 program. Eligible direct recipients are federally recognized American Indian Tribes and Alaskan Native Villages, groups and communities providing public transportation in rural areas. The TTP funds are allocated for grants to eligible recipients for any purpose eligible under Section 5311, which includes capital, operating, planning, and job access and reverse commute projects. No local match is required for TTP formula funds.

For more information about the Tribal Transit Program contact Elan Flippin-Jones, Office of Transit Programs at (202) 366-3800 or TribalTransit@dot.gov.

1. Authorized Funding

A total of $229 million is authorized over five years, of which $183.25 million is for a formula program and $45.8 million is for a competitive grant program.

2. FY 2024 Funding Availability

Under the Consolidated Appropriations Act, 2024, $36,676,304 is available for the Tribal Transit formula program. The total apportioned for the formula program is $37,952,037 after the addition of reapportioned funds.

Public Transportation on Indian Reservations Program Formula Grants—FY 2024
Total FY 2024 Appropriation Available | $36,676,304
Reapportioned Funds | 1,275,733
Total Apportioned | 37,952,037

3. Basis for Formula Apportionment

Funding is allocated by formula to eligible Indian tribes providing public transportation on tribal lands in rural areas. The formula apportionment shown in Table 10 is based on a statutory formula which includes three tiers. Tiers 1 and 2 are based on data reported to NTD by Indian tribes; Tier 3 is based on 2018-2022 American Community Survey data. The three tiers for the formula are: Tier 1—50 percent based on vehicle revenue miles reported to the NTD; Tier 2—25 percent provided in equal shares to Indian Tribes reporting at least 200,000 vehicle revenue miles to the NTD; Tier 3—25 percent based on Indian tribes providing public transportation on tribal lands (American Indian Areas, Alaska Native Areas, and Hawaiian Home Lands) on which more than 1,000 low income individuals reside. If more than one Tribe provides public transportation services on tribal lands in a single tribal statistical area, and the tribes cannot determine how to allocate Tier 3 funds, FTA will allocate the funds based on the relative portion of transit service (as defined by unlinked passenger trips) operated by each tribe, as reported to the National Transit Database.

4. Requirements

Formula funds apportioned under this program can be used for purposes consistent with Section 5311 to support public transportation on Indian reservations in rural areas.

Section 5335 requires NTD reporting for all direct recipients and subrecipients of Section 5311 funds. This reporting requirement has and continues to apply to the Tribal Transit Program. Tribes that provide public transportation in rural areas are reminded to report annually so they are included in the TTP formula apportionments. Tribes needing assistance with reporting to the NTD should contact the NTD Helpdesk: NTDHelp@dot.gov or the Appian NTD Reporting Application Support line: (877) 561-7466.

Additional program guidance for the TTP is found in FTA Circular 9040.1G, “Formula Grants for Rural Areas: Program Guidance and Application Instructions,” dated October 24, 2014, and is supplemented by additional information and changes provided in this notice and that may be posted to FTA's Tribal Transit web page.

5. Period of Availability

Funding under the TTP is available for the year of apportionment or allocation plus two additional years, consistent with the Section 5311 program. Any FY 2024 formula funds that remain unobligated at the close of business on September 30, 2026, will revert to FTA for reapportionment under the TTP.

6. Other Program Highlights

The funds set aside for the TTP are not meant to replace or reduce funds that Indian tribes receive from States through the Section 5311 program but are to be used to enhance public transportation on Indian reservations and transit serving Tribal communities. Funds allocated to Indian tribes by a State may be included in the State's Section 5311 application or awarded by FTA in a grant directly to the Indian tribe. FTA encourages Indian tribes intending to apply to FTA as direct recipients to contact the appropriate FTA Regional Office at the earliest opportunity.

TTP recipients must comply with all applicable Federal statutes, regulations, executive orders, FTA circulars, and other Federal requirements in carrying out the project supported by the FTA grant. FTA assists tribes with understanding these requirements through Tribal Transit Technical Assistance Workshops, and the Tribal Transit Technical Assistance Assessments initiative. Through these assessments, FTA collaborates with Tribal Transit recipients to review processes and identify areas in need of improvement and then assist with solutions to address these needs—all in a supportive and mutually beneficial manner. Information about upcoming workshops and other technical assistance opportunities will be posted on the FTA website. FTA's Regional Tribal Transit Liaisons are available to assist Tribes with applying for and managing FTA grants. A list of Regional Tribal Transit Liaisons can be found on FTA's website at https://www.transit.dot.gov/funding/grants/federal-transit-administrations-regional-tribal-liaisons.

The Tribal Transportation Self-Governance Program (TTSGP) was authorized by the FAST Act and is codified at 23 U.S.C. 207. Grant funding made available through the FTA formula or competitive TTP may be included in a Tribal Transportation Self-Governance funding agreement if there is an existing Self-Governance compact in place between the tribe and the Department of Transportation. If funds are transferred to a Tribal Self-Governance funding agreement, the funds will be subject to the requirements and provisions of the Tribal Transportation Self-Governance Program regulation at 49 CFR part 29 and may be used only for the purpose for which they were awarded.

For more information about the Tribal Transit Program, please contact Elan Flippin-Jones at TribalTransit@dot.gov or (202) 366-3800.

J. Public Transportation Innovation (49 U.S.C. 5312)

FTA's innovative research program includes three distinct programs: (a) a Research, Development, Demonstration, Deployment, and Evaluation program (49 U.S.C. 5312(b)-(e)); (b) a Low or No Emission Vehicle Component Assessment Program (LoNo CAP) (49 U.S.C. 5312(h)); and (c) a Transit Cooperative Research Program (TCRP) (49 U.S.C. 5312(i)).

For more information about the Public Transportation Innovation program, contact Mary Leary, Office of Research, Demonstration and Innovation at (202) 366-4052 or mary.leary@dot.gov.

1. Authorized Funding

IIJA authorizes $192.8 million over five years.

2. FY 2024 Funding Availability

Under the Consolidated Appropriations Act, 2024, $42,160,647 is available for the Public Transportation Innovation program. The total amounts apportioned to each subcomponent of the program is shown below in the table.

Public Transportation Innovation—FY 2024
Research, Development, Demonstration, Deployment, and Evaluation | $30,031,519
Low or No Emission Vehicle Component Testing | $5,237,739
Transit Cooperative Research Program (TCRP) | $6,891,389
Total Apportioned | $42,160,647

3. Basis for Allocation of Funds

Section 5312 funds are allocated according to the authorized purposes and amounts described above, and then remaining amounts are subject to discretionary allocations where not specifically authorized. For FY 2024, FTA intends to fund projects and activities in support of the FTA FY 2024 action plan in five major areas: safety, climate and resiliency, equity, economic strength, and transformation. In addition to the amounts authorized for Section 5312 by IIJA, the Consolidated Appropriations Act, 2024, provided $3,568,868 to support technical assistance, research, demonstration, or deployment activities or projects to accelerate the adoption of zero emission buses in public transit, as authorized under Section 5312. Projects may be selected through competitive Notices of Funding Opportunity (NOFO), noncompetitive awards, and partnerships with other Federal entities through interagency agreements. Potential recipients can register to receive information on NOFOs that are released under this program on GRANTS.GOV.

4. Eligible Expenses

Eligible expenses include activities involving research; innovation and development; demonstration, deployment, and evaluation; accelerated implementation and deployment of advanced digital construction management systems; evaluation; low or no emission vehicle component testing and research; and the Transit Cooperative Research Program.

5. Requirements

Generally, the Government share of the cost of a project carried out under Section 5312 shall not exceed 80 percent, except if there is substantial public interest or benefit, FTA may approve a greater Federal share. The non-Government share of the cost of a project carried out under Section 5312 may be derived from in-kind contributions. If FTA determines that there would be a clear and direct financial benefit to an entity under a grant, contract, cooperative agreement, or other agreement under Section 5312, FTA shall establish a Government share of the costs of the project to be carried out under the grant, contract, cooperative agreement, or other agreement that is consistent with the benefit. However, for the Lo-No Component Testing Program, the Government share is 50 percent; the remaining 50 percent of the costs will be paid by amounts recovered through the fees established by the testing facilities. There is no match requirement for the TCRP.

Application instructions and program management guidelines are set forth in FTA Circular 6100.1E, “Research, Technical Assistance and Training Program: Application Instructions and Program Management Guidelines” dated April 10, 2015. All research recipients are required to work with FTA to develop approved Statements of Work.

Pursuant to the Small Business Innovation Development Act, a portion of the Section 5312 funds must be set aside for the Department's Small Business Innovation Research program to address high priority research that will demonstrate innovative, economic, accurate, and durable technologies, devices, applications, or solutions to significantly improve current transit-related service including transit vehicle operation, safety, infrastructure and environmental sustainability, mobility, rider experience, or broadband communication.

6. Period of Availability

FTA establishes the period in which the funds must be obligated to the project. If the funds are not obligated within that period of time, they revert to FTA for reallocation under the program.

K. Technical Assistance and Workforce Development (49 U.S.C. 5314)

The Technical Assistance and Workforce Development program, 49 U.S.C. 5314, provides assistance to: (1) carry out technical assistance activities that enable more effective and efficient delivery of transportation services, foster compliance with Federal laws, and improve public transportation service; (2) develop standards and best practices for the transit industry; and (3) address public transportation workforce needs through research, outreach, training and the implementation of a frontline workforce grant program, and conduct training and educational programs in support of the public transportation industry.

For more information about the Technical Assistance and Workforce Development program, contact Mary Leary, Office of Research, Demonstration, and Innovation at 202-366-4052 or mary.leary@dot.gov.

1. Authorized Amounts

IIJA authorizes $61.98 million over five years for technical assistance. Of this amount, $34.4 million is authorized for the National Transit Institute under Section 5314(c).

2. FY 2024 Funding Availability

The IIJA authorized $12,404,500 for FY 2024 for the Technical Assistance and Workforce Development program, as shown in the table below. The total apportioned for the program is $13,013,111 after the deduction of for National Transit Institute and the inclusion of $7,500,000 in additional appropriations under the Consolidated Appropriations Act, 2024.

Technical Assistance and Workforce Development—FY 2024
Technical Assistance, Standards Development & Human Resource Training | $12,404,500
National Transit Institute | (6,891,389)
Additional FY 2024 Appropriation | 7,500,000
Total Appropriated | 13,013,111

3. Basis for Allocation of Funds

Under the appropriated amounts for Section 5314, $6.89 million is available for the National Transit Institute (NTI) in FY 2024. The remaining $13 million of appropriated funds will be allocated in support of both FTA and USDOT strategic goals for technical assistance, standards development, and workforce development. Projects may be selected through Notices of Funding Opportunity (NOFO) or sole source cooperative agreements. Potential recipients can register to receive notification of NOFOs under this program on GRANTS.GOV.

Once selected, FTA enters into cooperative agreements, contracts, or other agreements to award funds and manage the projects carried out under Section 5314.

4. Eligible Expenses

Eligible expenses include activities involving (a) technical assistance; (b) standards development; and (c) human resources and training, which includes workforce development programs and activities as well as supportive services. Supportive services are wraparound services that help individuals, and especially those from underrepresented and underserved groups, enroll in and successfully complete training. More information on supportive services can be found at https://www.transit.dot.gov/funding/grants/federal-transit-administration-faqs-supportive-services.

Eligible technical assistance activities may include activities to support: (a) compliance with the Americans with Disabilities Act (ADA); (b) compliance with coordinating planning and human services transportation; (c) meeting the transportation needs of elderly individuals; (d) increasing transit ridership in coordination with MPOs and other entities, particularly around transit-oriented development; (e) addressing transportation equity with regard to the effect that transportation planning, investment, and operations have for low-income and minority individuals; (f) facilitating best practices to promote bus driver safety; (g) compliance with Buy America and pre- and post-award audits; (h) assisting with the development and deployment of low and no emission vehicles or components for vehicles; (i) and other technical assistance activities that are necessary to advance the interests of public transportation.

Eligible standards activities include the development of voluntary and consensus-based standards and best practices by the industry to include those needed for safety, fare collection, intelligent transportation systems, accessibility, procurement, security, asset management, operations, maintenance, vehicle propulsion, communications, and vehicle electronics.

Eligible human resources and training activities include (a) employment training programs; (b) outreach programs to increase employment for veterans, females, individuals with disabilities, and minorities in public transportation activities; (c) research on public transportation personnel and training needs; (d) training and assistance for veteran and minority business opportunities; and (e) consensus-based national training standards and certifications in partnership with industry stakeholders. FTA funding directly allocated for these eligible purposes must be done through a competitive frontline workforce development program as required in the authorization. Should FTA allocate funds for these purposes, it will advertise the available funding in a Notice of Funding Opportunity (NOFO) on GRANTS.GOV and on its website.

5. Requirements

Generally, the Government's share of the cost of a project carried out using a grant under Section 5314 shall not exceed 80 percent. However, for the human resources and training, including the Innovative Public Transportation Frontline Workforce Development Program, the Government's share cannot exceed 50 percent. The Federal share for other types of awards will be stated in the agreement. In some cases, FTA may require a higher non-Federal share if FTA determines a recipient would obtain a clear and direct financial benefit from the project, or if the non-Federal share is an evaluation factor under a competitive selection process. There is no match requirement for the National Transit Institute.

Application instructions and program management guidelines are set forth in FTA Circular 6100.1E, “Research, Technical Assistance and Training Program: Application Instructions and Program Management Guidelines,” dated April 10, 2015.

Under 49 U.S.C. 5314(b)(4), recipients may use no more than 0.5 percent of their Section 5307, 5337 and 5339 funds to support workforce development activities. In addition, 49 U.S.C. 5314(c)(4) allows recipients to use no more than 0.5 percent of their 5307, 5337, and 5339 funds to attend NTI training. Both provisions allow recipients to use these funds to pay up to 80 percent of the cost of training.

6. Period of Availability

FTA establishes the period in which the funds must be obligated to the project. If the funds are not obligated within that period of time, they revert to FTA for reallocation under the program.

7. Other Program Highlights

For more information about the NTI, contact Lisa Colbert, at the FTA Office of Research, Demonstration, and Innovation (TRI): lisa.colbert@dot.gov or call 202-366-9261.

L. Public Transportation Emergency Relief Program (49 U.S.C. 5324)

FTA's Emergency Relief (ER) Program is authorized to provide funding for public transportation expenses incurred as a result of an emergency or major disaster. Congress appropriates funding for the ER Program periodically as needed. In the event of a publicly declared emergency or disaster, eligible expenses will include emergency operating expenses, such as evacuations, rescue operations, and expenses incurred to protect assets in advance of a disaster, as well as capital projects to protect, repair, reconstruct, or replace equipment and facilities of a public transportation system in the United States or on an Indian reservation that the Secretary determines is in danger of suffering serious damage or has suffered serious damage as a result of an emergency. Additional information on eligible expenses and the process for applying for ER Program funding can be found in FTA's “Emergency Relief Manual: A Reference Manual for States & Transit Agencies on Response and Recovery from Declared Disasters and FTA's Emergency Relief Program (49 U.S.C. 5324),” dated March 27, 2023.

Recipients of FTA funding affected by a declared emergency or disaster are authorized to use funds apportioned under Sections 5307 and 5311 for emergency purposes. Recipients are advised that formula funds used for emergency purposes will not be replaced or restored with funding available through FTA under the ER Program or by the Federal Emergency Management Agency (FEMA).

In the event of a disaster affecting a public transportation system, the affected recipient should contact its FTA Regional Office as soon as practicable to determine whether Emergency Relief funds are available, and to notify FTA that it plans to seek reimbursement for emergency operations or repairs that have already taken place or are in process. If Emergency Relief funds are unavailable the recipient may seek reimbursement from FEMA. Properly documented costs for which the recipient has not received reimbursement from FEMA may later be reimbursed by grants made either from Section 5324 funding (if appropriated) or Sections 5307 and 5311 program funding, once the eligible recipient formally applies to FTA for reimbursement and FTA determines that the expenses are eligible for emergency relief.

In addition, before receiving a grant under this Section following an emergency, the recipient shall: (1) submit documentation demonstrating proof of insurance required under Federal law for all structures related to the grant application; and (2) certify that the recipient has insurance required under State law for all structures related to the grant application.

Additional information about the Emergency Relief program is available on the FTA website at https://www.transit.dot.gov/funding/grant-programs/emergency-relief-program.

For more information, contact Tom Wilson, Office of Program Management, at 202-366-5279 or XXXhomas.wilson@dot.gov.

M. Public Transportation Safety Program (49 U.S.C. 5329)

Section 5329(e)(6) provides funding to support States with rail fixed guideway public transportation systems (rail transit systems) to develop and carry out State Safety Oversight (SSO) programs consistent with the requirements of 49 U.S.C. 5329. For more information, contact Maria Wright, Office of Safety Review at (202) 366-5922 or maria1.wright@dot.gov.

1. Authorized Amounts

A total of $251.6 million is authorized over five years for the State Safety Oversight Program.

2. FY 2024 Funding Availability

Under the Consolidated Appropriations Act, 2024, $50,347,409 is available for the State Safety Oversight (SSO) formula program for FY 2024, which is 0.75 percent of the amount made available for section 5307 grants. The total apportioned for the formula program is $51,122,059 after the addition of reapportioned funds, as shown in the table below.

Public Transportation Safety Program—FY 2024
Total Appropriation | $50,347,409
Reapportioned Funds | 774,650
Total Apportioned | 51,122,059

3. Basis for Formula Apportionment

FTA will continue to allocate funds to the States by an administrative formula, which is detailed in the Federal Register notice which apportioned the initial SSO Formula Grant Program funds (79 FR 13380). Grant funds for the SSO program are apportioned to eligible States using a three-tier formula based on statutory requirements, which apportion 60 percent of available funds based on rail transit system vehicle passenger miles (PMT), vehicle revenue miles (VRM), and directional route miles (DRM), 20 percent of available funds equally to each eligible State, and 20 percent based on the number of rail transit systems in each eligible State.

4. Requirements

FTA requires each applicant to demonstrate in its grant application that its proposed grant activities will develop, lead to, or carry out a State Safety Oversight program that meets the requirements under 49 U.S.C. 5329(e). Grant funds may be used for program operational and administrative expenses, including employee training activities. Please see the Federal Register notice (79 FR 13380) for more information.

IIJA enhanced State safety oversight programs by strengthening rail inspection practices by providing State safety oversight agencies authority to collect and analyze data and conduct risk-based inspections of rail fixed guideway transportation systems. Recipients may also use funds in support of the development and implementation of transmission-based train control systems that enforce train speed regulation and ensure train separation and collision avoidance. FTA continues to be authorized to take action to address unsafe conditions or practices which could include issuing restrictions and prohibitions or withholding funds for non-compliance with safety requirements.

5. Period of Availability

SSO Formula Grant Program funds are available for the year of apportionment plus two additional years. Any FY 2024 funds that remain unobligated as of September 30, 2026, will revert to FTA for reapportionment under the SSO Formula Grant Program.

N. State of Good Repair Program (49 U.S.C. 5337)

The State of Good Repair (SGR) Program provides capital assistance for maintenance, replacement, and rehabilitation projects of existing high intensity fixed guideway and high intensity motorbus systems to maintain a state of good repair. Additionally, SGR grants are eligible for developing and implementing Transit Asset Management plans. This program provides funding for the following fixed guideway transit modes: rapid rail (heavy rail), commuter rail, light rail, hybrid rail, monorail, automated guideway, trolleybus (using overhead catenary), aerial tramway, cable car, inclined plane (funicular), passenger ferry, and bus rapid transit. Fixed-route bus capital projects for services operating on high-occupancy-vehicle (HOV) facilities are also funded through the High Intensity Motorbus tier of this program. Of the amount authorized for Section 5337 each year, $300 million is set aside for the competitive Rail Vehicle Replacement Program.

FTA published the State of Good Repair Program guidance, FTA Circular 5300.1, “State of Good Repair Grants Program: Guidance and Application Instructions,” dated January 28, 2015.

For more information about the SGR program, contact Bret Martin, Office of Transit Programs, at (202) 366-0870 or bret.martin@dot.gov.

1. Authorized Amounts

IIJA authorized $18.39 billion over five years for the State of Good Repair Program, including $1.5 billion for the Rail Vehicle Replacement Program, and provided an additional $4.75 billion in advance appropriations.

2. FY 2024 Funding Availability

For FY 2024, $4,630,934,484 is available for the State of Good Repair Program under the Consolidated Appropriations Act, 2024, and the IIJA advance appropriations. The total amount apportioned is $4,275,256,577 after the deductions for oversight and transfers to OIG, the set-aside for the Rail Vehicle Replacement Program, and the addition of reapportioned funds as shown in the table below. Of the total amount apportioned, $4,153,415,511 is available for the High Intensity Fixed Guideway Formula and $121,841,066 for the High Intensity Motorbus Formula.

State of Good Repair Formula Program—FY 2024
Total Appropriation | $4,630,934,484
Oversight Deductions | (55,714,345)
Transfer to OIG | (95,000)
Reapportioned Funds | 131,438
FY 2024 Rail Replacement Competitive Grant | (300,000,000)
Total Available to Apportion | 4,275,256,577
Total Available to High Intensity Fixed Guideway Formula | 4,153,415,511
Total Available to High Intensity Motorbus Formula | 121,841,066

3. Basis for Formula Apportionment

FTA allocates State of Good Repair Program funds according to a statutory formula. Funds are apportioned to urbanized areas with high intensity fixed guideway and high intensity motorbus systems that have been in operation for at least seven Federal fiscal years. This means that only segments of high intensity fixed guideway and motorbus systems that entered into revenue service on or before September 30, 2016, are included in the formula, as identified in the NTD.

The law requires that 97.15 percent of the total amount authorized for the State of Good Repair Program be apportioned to urbanized areas with “High Intensity Fixed Guideway” systems. The apportionments to urbanized areas with “High Intensity Fixed Guideway” systems are determined by two equal elements: (1) the proportion of the amount an urbanized area would have received in FY 2011 to the total amount apportioned to all urbanized areas in FY 2011 using new fixed guideway definition; and (2) the proportion of vehicle revenue miles of an urbanized area to the total vehicle revenue miles of all urbanized areas and the proportion of directional route miles of an urbanized area to the total directional route miles of all urbanized areas. High Intensity Motorbus systems will receive the remaining 2.85 percent of the total amount authorized for the State of Good Repair Program, and the apportionments to urbanized areas are based on vehicle revenue miles and directional route miles.

Vehicle revenue miles and directional route miles attributable to an urbanized area must be placed in revenue service at least seven years before the first day of the fiscal year. FTA will apportion funds to designated recipients in the UZAs (see Section IV.C. of this notice for more information about designated recipients) with high intensity fixed guideway and/or high intensity motorbus systems operating at least seven years. The designated recipients will then allocate funds as appropriate to recipients that are public entities in the urbanized areas and provide split letters to FTA. FTA can make grants to direct recipients after sub-allocation of funds.

4. Eligible Expenses

Eligible activities include projects that maintain, rehabilitate, and replace transit assets, as well as projects that implement Transit Asset Management plans. Additionally, training and workforce activities, including supportive services, authorized under 49 U.S.C. 5314(b) and (c) are eligible for the State of Good Repair Program funds; funds for such activities are limited to 1 percent of the total amount apportioned to the recipient (0.5 percent for each of the authorized activities). See Section IV.K. of this notice for more information on workforce development activities.

5. Requirements

In addition to the program guidance found in the Circular, all recipients must certify that they will comply with the rule issued under Section 5326 for the Transit Asset Management plan, 49 CFR part 625, and SGR projects must be included in recipients' Transit Asset Management plans.

6. Period of Availability

The State of Good Repair Program funds apportioned in this notice are available for obligation during FY 2024 plus three additional years. Accordingly, funds apportioned in FY 2024 must be obligated in grants by September 30, 2027. Any FY 2024 apportioned funds that remain unobligated at the close of business on September 30, 2027, will revert to FTA for reapportionment under the State of Good Repair Program.

O. Grants for Buses and Bus Facilities Program (49 U.S.C. 5339)

The Section 5339 program provides funding to replace, rehabilitate, and purchase buses and related equipment as well as construct bus-related facilities.

Additional guidance on the Section 5339(a) Buses and Bus Facilities Formula Program can be found in FTA Circular 5100.1, “Bus and Bus Facilities Program: Guidance and Application Instructions,” published on May 18, 2015. Information on the Section 5339(b) Buses and Bus Facilities Competitive Program and the Section 5339(c) Low or No Emission Program can be found each year in the Notice of Funding Opportunity.

For more information about the Buses and Bus Facilities Formula and Competitive Programs and the Low or No Emission Program, contact Kirsten Wiard-Bauer, Office of Transit Programs at (202) 366-7052 or kirsten.wiard-bauer@dot.gov.

1. Authorized Amounts

IIJA authorized a total of $5.5 billion over five years for the Section 5339 Program. IIJA provided an additional $5.25 billion over five years in advance appropriations for the Section 5339(c) Low or No Emission Program.

2. FY 2024 Funding Availability

For FY 2024, $2,151,234,651 is available for Grants for Buses and Bus Facilities under the Consolidated Appropriations Act, 2024, and the IIJA advance appropriations. Of this amount: $630,276,840 is available for the Buses and Bus Facilities Formula Program after the deduction for oversight and the addition of reapportioned funds; $390,045,823 is available for the Buses and Bus Facilities Competitive Program after the takedowns for oversight and the Low or No Emission Program; and $1,103,963,762 (including advance appropriations) is available for the Low or No Emission Program after the takedowns for oversight and transfer to the OIG. These amounts are detailed in the table below.

5339(a) Formula Grants for Buses and Bus Facilities
Total FY 2024 Appropriation Available | $632,711,140
Oversight Deduction | (4,745,334)
Reapportioned Funds | 2,311,034
Total Apportioned | 630,276,840
Section 5339(b) Competitive Grants for Buses and Bus Facilities
Total FY 2024 Appropriation Available | 468,523,511
Oversight Deduction | (3,513,926)
Less Section 5339(c) Low or No Emission Grants (Competitive) | (74,963,762)
Total Apportioned | 390,045,823
Section 5339(c) Low or No Emission Grants (Competitive)
Total FY 2024 Available | 1,124,963,762
Less FY 2024 Oversight and Admin | (20,895,000)
Less FY 2024 Transfer to OIG | (105,000)
Total Available for Allocation | 1,103,963,762

3. Basis for Allocation

Section 5339(a) Buses and Bus Facilities Formula Program funds are apportioned to States, territories, and designated recipients based on a statutory formula. Under the national distribution, each State is allocated $4 million, and each territory is allocated $1 million, for use anywhere in the State or territory. The remainder of the available funding is then apportioned for UZAs based on population, population density, vehicle revenue miles and passenger miles using the same apportionment formula and allocation process as Section 5307. Funds for UZAs under 200,000 in population are apportioned to the State through a Section 5339(a) Governor's apportionment for allocation to eligible recipients within such areas of the State at the Governor's discretion. Funds for UZAs with populations of 200,000 or more are apportioned directly to one or more designated recipients within each UZA for allocation to eligible projects and recipients within the UZA.

4. Eligible Expenses

Eligible capital projects under the Buses and Bus Facilities Formula Program (Section 5339(a)) continue to include projects to replace, rehabilitate, and purchase buses and related equipment, and projects to construct bus-related facilities. Recipients may use up to one-half of one percent of their Section 5339 funds to support workforce development activities, including supportive services, at an 80 percent Federal share. Eligible workforce development activities are defined in Section 5314; see Section IV.K. of this notice for more information. This provision is in addition to the one-half of one percent that recipients may use for training activities with the National Transit Institute.

5. Requirements

Eligible recipients of the Buses and Bus Facilities Formula Program (Section 5339(a)) include designated recipients that operate fixed route bus service or that allocate funding to fixed route bus operators; and State or local governmental entities that operate fixed route bus service that are eligible to receive direct grants under the Urbanized Area Formula (Section 5307) and Rural Formula (Section 5311) programs. Eligible subrecipients continue to include public agencies or private nonprofit organizations engaged in public transportation, including those providing services open to a segment of the general public, as defined by age, disability, or low income.

The requirements of Section 5307 apply to recipients of Section 5339 funds within urbanized areas. The requirements of Section 5311 apply to recipients of Section 5339 funds within rural areas. For additional program requirements, refer to FTA Circular 5100.1, “Bus and Bus Facilities Program: Guidance and Application Instructions.”

6. Period of Availability

The Buses and Bus Facilities Formula Program funds apportioned in this notice are available for obligation during FY 2024 plus three additional years. Accordingly, funds apportioned in FY 2024 must be obligated in grants by September 30, 2027. Any FY 2024 apportioned funds that remain unobligated at the close of business on September 30, 2027, will revert to FTA for reapportionment under the Buses and Bus Facilities Formula Program.

Discretionary program funds authorized under Section 5339(b) and (c) (Bus Competitive and Low-No, respectively) follow the same period of availability: year of allocation to a project plus three additional years.

P. Growing States and High-Density States Formula Factors (49 U.S.C. 5340)

IIJA continues the use of formula factors to distribute additional funds to the Section 5307 and Section 5311 programs for Growing States and High-Density States. FTA will continue to publish single urbanized area and rural apportionments that show the total amount for Section 5307 and 5311 programs that includes Section 5340 apportionments for these programs.

1. Authorized Amounts

IIJA authorized $3.879 billion over five years for the Growing States and High-Density States Formula factors.

2. FY 2024 Funding Availability

In FY 2024, $776,277,698 is authorized and appropriated for apportionment in accordance with the formula factors prescribed for Growing States and High-Density States set forth in Section 5340 for FY 2024.

Growing States and High-Density States Formula Factors—FY 2024
5340 High Density States | $364,850,518
5340 Growing States | 411,427,180
Total Apportioned | 776,277,698

3. Basis for Formula Apportionment

Under the Growing States portion of the Section 5340 formula, FTA projects each State's 2035 population by comparing each State's apportionment year population (as determined by the Census Bureau) to the State's 2020 Census population and extrapolating to 2035 based on each State's rate of population growth between 2020 and the apportionment year. Each State receives a share of Growing States funds on the basis of its projected 2035 population relative to the nationwide projected 2035 population.

Once each State's share is calculated, funds attributable to that State are divided into an urbanized area allocation and a non-urbanized area allocation on the basis of the percentage of each State's 2020 Census population that resides in urbanized and non-urbanized areas. Urbanized areas receive portions of their State's urbanized area allocation on the basis of the 2020 Census population in that urbanized area relative to the total 2020 Census population in all urbanized areas in the State. These amounts are added to the Urbanized Area's Section 5307 apportionment. The States' rural area allocation is added to the allocation that each State receives under the Section 5311 Formula Grants for Rural Areas program.

The High-Density States portion of the Section 5340 formula is allocated to urbanized areas in States with a population density greater than 370 persons per square mile. Based on this threshold and 2020 Census data, the States that qualify in FY 2024 are Maryland, Delaware, Massachusetts, Connecticut, Rhode Island, New York, New Jersey, and Florida. The amount of funds provided to each of these eight States is allocated based on a formula that subtracts an urbanized area land factor from the total population of each qualifying State. The urbanized area land factor is based on the total land area and urbanized area population as a proportion of total population of each individual qualifying State. Once funds are allocated to each State, funds are then allocated to urbanized areas within the States on the basis of an individual urbanized area's population relative to the population of all urbanized areas in that State.

Q. Washington Metropolitan Area Transit Authority Grants

1. Authorized Amounts

Section 601(f) of the Passenger Rail Investment and Improvement Act of 2008 (Pub. L. 110-432, div. B), as amended by IIJA, authorized $150 million per year for each of fiscal years of 2022 through 2030 for capital and preventive maintenance grants to the Washington Metropolitan Area Transit Authority (WMATA).

2. FY 2024 Funding Availability

Under the Consolidated Appropriations Act, 2024, $150,000,000 is available. The total amount available is $148,500,000 after the deduction for oversight as shown in the table below.

Washington Metropolitan Area Transit Authority Grants—FY 2024
Total Appropriation | $150,000,000
Oversight Deduction | (1,500,000)
Total Apportioned | 148,500,000

3. Period of Availability

Funds appropriated for WMATA under the Consolidated Appropriations Act, 2024, shall remain available until expended.

For more information about WMATA grants, contact Bret Martin, Office of Transit Programs, at (202) 366-0870 or bret.martin@dot.gov.

R. Transit Infrastructure Grants—Community Project Funding/Congressionally Directed Spending

1. Appropriated Amounts

The Consolidated Appropriations Act, 2024, appropriated $206,817,976 for Community Project Funding/Congressionally Directed Spending for 141 projects in 31 States, identified in the accompanying Joint Explanatory Statement. Table 20 identifies the recipient, project, amount, and a project ID that will be used to identify the project in TrAMS.

Community Project Funding/Congressionally Directed Spending—FY 2024
Total Appropriated | $206,817,976

2. Period of Availability

Funds remain available until expended. Recipients are, however, encouraged to apply for these funds by the end of FY 2027. First time grant recipients should contact the relevant Regional Office for assistance to initiate steps to become an FTA recipient.

3. Requirements

As the Consolidated Appropriations Act, 2024 specifies that funds are available for projects and activities eligible under Chapter 53, generally applicable Chapter 53 requirements apply to these funds, including the planning requirements of Sections 5303 and 5304; bus testing requirements of Section 5318; general provision requirements of Section 5323 (such as Buy America compliance); contract requirements of Section 5325; project management requirements of Section 5327; nondiscrimination requirements of Section 5332; disposition requirements of Section 5334; and applicability of FTA oversight of Section 5338, as well as the National Environmental Policy Act (NEPA) and related requirements.

Community Project Funding/Congressionally Directed Spending projects funded by the Consolidated Appropriations Act, 2024 will receive a maximum Federal share of 80 percent of the net costs of the project. Non-federal match of 20 percent is required for these funds.

Upon written request by the recipient named in Table 20 and a proposed pass-through recipient, FTA may approve another entity to act as the direct recipient of the funding and the named recipient may serve as a subrecipient. Pre-award authority is provided consistent with the requirements for FTA's formula funds as of the date all necessary requirements were met (see Section V, below.) However, before incurring costs, recipients are strongly encouraged to consult with the appropriate FTA Regional Office regarding the eligibility of the project for future FTA funds and for questions on environmental requirements, or any other Federal requirements that must be met before incurring pre-award costs.

For more information about Community Project Funding grants, contact Bret Martin, Office of Transit Programs, at (202) 366-0870 or bret.martin@dot.gov.

V. FTA Policy and Procedures for FY 2024 Grants

A. Automatic Pre-Award Authority To Incur Project Costs

1. Caution to New Recipients

While FTA provides pre-award authority to incur expenses before grant award for formula programs, it recommends that first-time grant recipients not utilize this automatic pre-award authority without verifying with the appropriate FTA Regional Office that all pre-requisite requirements have been met. Commonly, a new recipient may misunderstand pre-award authority conditions and be unaware of all the applicable FTA requirements that must be met in order to be reimbursed for project expenditures incurred in advance of grant award. FTA programs have specific statutory requirements that are often different from those for other Federal grant programs with which a new recipient may be familiar. If costs are incurred for an ineligible project or activity, or for an eligible activity but at an inappropriate time (e.g., prior to NEPA completion), FTA will be unable to reimburse the project sponsor, and, in certain cases, the entire project may be rendered ineligible for FTA assistance.

2. Policy

FTA provides pre-award authority to incur expenses before grant award for certain program areas described below. This pre-award authority allows recipients to incur certain project costs before grant approval and retain the eligibility of those costs for subsequent reimbursement after grant approval. The recipient assumes all risk and is responsible for ensuring that all conditions are met to retain eligibility. This pre-award spending authority permits an eligible recipient to incur costs on an eligible transit capital, operating, planning, or administrative project without prejudice to possible future Federal participation in the cost of the project. In this notice, FTA continues to provide pre-award authority through the authorization period of IIJA (October 1, 2022, through September 30, 2026) for capital assistance under all formula programs, so long as the conditions described below are met. Pre-award authority is indicated in the application. The actual items of cost associated with the use of pre-award authority are documented in the initial Federal Financial Report (FFR) that is required to be completed prior to the recipient executing the award. FTA provides pre-award authority for planning and operating assistance under the formula programs without regard to the period of the authorization. For projects funded by competitive programs, pre-award authority may be granted at the time of project selection unless otherwise noted. All pre-award authority is subject to conditions and triggers stated below:

a. Operating, Planning, or Administrative Assistance

FTA does not impose additional conditions on pre-award authority for operating, planning, or administrative assistance under the formula grant programs. Recipients may be reimbursed for expenses incurred before grant award so long as funds have been expended in accordance with all Federal requirements, costs would have been allowable if incurred after the date of award, and the recipient is otherwise eligible to receive the funding. In addition to cross-cutting Federal grant requirements, program specific requirements must be met.

b. Transit Capital Projects

For transit capital projects, the date that costs may be incurred varies depending on the type of activity and its potential to have a significant impact on the human and natural environment as described in Section 3., Conditions, below.

c. Public Transportation Innovation, Technical Assistance and Workforce Development

Unless provided for in an announcement of project selections, pre-award authority does not apply to Section 5312 Public Transportation Innovation projects or Section 5314 Technical Assistance and Workforce Development projects. Before an applicant may incur costs for activities under these programs, it must first obtain a written Letter of No Prejudice (LONP) from FTA.

For more information, contact Lisa Colbert, at the FTA Office of Research, Demonstration, and Innovation (TRI): lisa.colbert@dot.gov or call 202-366-9261.

3. Conditions

The conditions under which pre-award authority may be utilized are specified below:

i. Pre-award authority is not a legal or implied commitment that the subject project will be approved for FTA assistance or that FTA will obligate Federal funds. Furthermore, it is not a legal or implied commitment that all items undertaken by the applicant will be eligible for inclusion in the project.

ii. All FTA statutory, procedural, and contractual requirements must be met.

iii. No action will be taken by the recipient that prejudices the legal and administrative findings that FTA must make in order to approve a project.

iv. Local funds expended by the recipient after the date of the pre-award authority will be eligible for credit toward local match or reimbursement if FTA later makes a grant or grant amendment for the project. Local funds expended by the recipient before the date of the pre-award authority will not be eligible for credit toward local match or reimbursement. Furthermore, the expenditure of local funds or the undertaking of certain activities that would compromise FTA's ability to comply with Federal environmental laws (e.g., project implementation activities such as land acquisition, demolition, or construction before the date of pre-award authority) may render the project ineligible for FTA funding.

v. The Federal amount of any future FTA assistance awarded to the recipient for the project will be determined on the basis of the overall scope of activities and the prevailing statutory provisions with respect to the Federal/local match ratio at the time the funds are obligated.

vi. For funds to which the pre-award authority applies, the authority expires with the lapsing of the fiscal year funds.

vii. When a grant for the project is subsequently awarded, the grant and the Federal Financial Report in TrAMS must indicate the use of pre-award authority and an initial Federal Financial Report must be submitted in TrAMS to associate those costs with the award.

viii. Environmental Requirements—All Federal grant requirements must be met at the appropriate time for the project to remain eligible for Federal funding. Designated recipients may incur costs for design and environmental review activities for all formula funded projects from the date of the authorization of the formula funds or for discretionary funded projects other than those funded by the Capital Investment Grants (CIG) program from the date of the announcement of the competitive allocation of funds for the project.

For projects that qualify for a categorical exclusion (CE) pursuant to 23 CFR 771.118(c), designated recipients may start activities and incur costs under pre-award authority for property acquisition, demolition, construction, and acquisition of vehicles, equipment, or construction materials from the date of the authorization of formula funds or the date of the announcement of competitive allocations for the project.

FTA recommends that a grant applicant considering a CE pursuant to 23 CFR 771.118(c) contact the appropriate FTA Regional Office for assistance in determining the proper environmental review process, including other applicable environmental laws, and level of documentation necessary before incurring the above-mentioned costs. This applies especially when the grant applicant believes a c-list CE with construction activities, such as 23 CFR 771.118(c)(8), (9), (10), (12), or (13), applies to its project or if a grant applicant intends to acquire property through the use of pre-award authority. If FTA subsequently finds that a project does not qualify for a CE under 23 CFR 771.118(c) and the sponsor has already undertaken activities under pre-award authority that are only allowable for projects that qualify for a CE under 23 CFR 771.118(c), the project will be ineligible for FTA assistance.

For all other non-CIG projects that do not qualify for a CE under 23 CFR 771.118(c), grant applicants may take action and incur costs for property acquisition, demolition, construction, and acquisition of vehicles, equipment, or construction materials from the date that FTA completes the environmental review process required by NEPA and its implementing regulations, 23 U.S.C. 139, and other environmental laws, by its issuance of a 23 CFR 771.118(d) CE determination, a finding of no significant impact (FONSI), a combined final environmental impact statement (FEIS)/record of decision (ROD), or a ROD.

ix. Planning and other requirements—Formula funds must be authorized, or appropriated, and competitive project allocations published or announced before pre-award authority can be considered.

The requirements that a capital project be included in a locally adopted Metropolitan Transportation Plan, the Metropolitan Transportation Improvement Program, and the federally approved Statewide Transportation Improvement Program (23 CFR part 450) must be satisfied before the recipient may advance the project beyond planning and preliminary design with non-federal funds under pre-award authority. If the project is located within an EPA-designated non-attainment or maintenance area for air quality, the conformity requirements of the Clean Air Act, 40 CFR part 93, must also be met before the project may be advanced into implementation-related activities under pre-award authority triggered by the completion of the NEPA process. For a planning project to have pre-award authority, the planning project must be included in an MPO-approved UPWP that has been coordinated with the State.

x. Federal procurement procedures, as well as the whole range of applicable Federal requirements (e.g., Buy America and the Build America Buy America Act, Davis-Bacon Act, and Disadvantaged Business Enterprise), must be followed for projects in which Federal funding will be sought in the future. Failure to follow any such requirements could make the project ineligible for Federal funding. In short, the administrative flexibility requires a recipient to make certain that no Federal requirements are circumvented.

xi. All program specific requirements must be met. For example, projects under Section 5310 must comply with specific program requirements, including coordinated planning.

Before incurring costs, recipients are strongly encouraged to consult with the appropriate FTA Regional Office regarding the eligibility of the project for future FTA funds and for questions on environmental requirements, or any other Federal requirements that must be met.

4. Pre-Award Authority for the Fixed Guideway Capital Investment Grants Program

Projects proposed for Section 5309 Capital Investment Grant (CIG) program funds are required to follow a multi-step, multi-year process defined in law. For New Starts and Core Capacity projects, this process includes three phases: project development (PD), engineering, and construction. For Small Starts projects, this process includes two phases: PD and construction. After receiving a letter from the project sponsor requesting entry into the PD phase, FTA must respond in writing within 45 days whether the information was sufficient for entry. If FTA's correspondence indicates the information was sufficient and the New Starts, Small Starts or Core Capacity project enters PD, FTA extends pre-award authority at that time to the project sponsor to incur costs for PD activities. PD activities include the work necessary to complete the environmental review process and as much engineering and design activities as the project sponsor believes are necessary to support the environmental review process. Upon completion of the environmental review process with a Record of Decision (ROD), Finding of No Significant Impact (FONSI), or Categorical Exclusion (CE) determination by FTA for a New Starts, Small Starts, or Core Capacity Improvement project, FTA extends pre-award authority to project sponsors to incur costs for as much engineering and design as needed to develop a reasonable cost estimate and financial plan for the project, utility relocation, and real property acquisition and associated relocations for any property acquisitions not already accomplished as a separate project for hardship or protective purposes or right-of-way under 49 U.S.C. 5323(q).

For Small Starts projects, upon completion of the environmental review process and confirmation from FTA that the overall project rating is at least a Medium, FTA extends pre-award authority for vehicle purchases as well as any remaining engineering and design, demolition, and procurement of long lead items for which market conditions play a significant role in the acquisition price. The long lead items include, but are not limited to, procurement of rails, ties, and other specialized equipment, and commodities.

Upon receipt of a letter notifying a New Starts or Core Capacity project sponsor of the project's approval into the engineering phase, FTA extends pre-award authority for vehicle purchases as well as any remaining engineering and design, demolition, and procurement of long lead items for which market conditions play a significant role in the acquisition price. The long lead items include, but are not limited to, procurement of rails, ties, and other specialized equipment, and commodities.

Please contact the appropriate FTA Regional Office for a determination of activities not listed here, but which meet the intent described above. FTA provides this pre-award authority in recognition of the long-lead time and complexity involved with purchasing vehicles as well as their relationship to the “critical path” project schedule. FTA cautions recipients that do not currently operate the type of vehicle proposed in the project about exercising this pre-award authority. FTA encourages these sponsors to wait until later in the process when project plans are more fully developed. FTA reminds project sponsors that the procurement of vehicles must comply with all Federal requirements including, but not limited to, competitive procurement practices, the Americans with Disabilities Act, and Buy America. FTA encourages project sponsors to discuss the procurement of vehicles with FTA in regard to Federal requirements before exercising pre-award authority.

a. Real Property Acquisition

FTA extends pre-award authority for the acquisition of real property and real property rights for CIG projects (New or Small Starts or Core Capacity) upon completion of the environmental review process for that project. The environmental review process is completed when FTA signs a combined FEIS/ROD, ROD, FONSI or makes a CE determination. With the limitations and caveats described below, real estate acquisition may commence, at the project sponsor's risk. To maintain eligibility for a possible future FTA grant award, any acquisition of real property or real property rights must be conducted in accordance with the requirements of the Uniform Relocation Assistance and Real Property Acquisition Policies Act (URA) and its implementing regulations, 49 CFR part 24. This pre-award authority is strictly limited to costs incurred: (i) to acquire real property and real property rights in accordance with the URA regulation, and (ii) to provide relocation assistance in accordance with the URA regulation. This pre-award authority is limited to the acquisition of real property and real property rights that are explicitly documented in the draft environmental impact statement (DEIS), FEIS, environmental assessment (EA), or CE document, as needed for the selected alternative that is the subject of the FTA-signed ROD or FONSI, or CE determination. This pre-award authority regarding property acquisition that is granted at the completion of the environmental review process does not cover site preparation, demolition, or any other activity that is not strictly necessary to comply with the URA, with one exception—namely when a building that has been acquired, has been vacated and awaits demolition poses a potential fire safety hazard or other hazard to the community in which it is located or is susceptible to reoccupation by unauthorized occupants. Demolition of the building is also covered by this pre-award authority upon FTA's written agreement that the adverse condition exists. Pre-award authority for property acquisition is also provided when FTA makes a CE determination for a protective buy or hardship acquisition in accordance with 23 CFR 771.118(d)(3). Pre-award authority for property acquisition is also provided when FTA completes the environmental review process for the acquisition of right-of-way as a separate project in accordance with 49 U.S.C. 5323(q). When a tiered environmental review in accordance with 23 CFR 771.111(g) is used, pre-award authority is not provided upon completion of the first-tier environmental document except when the Tier-1 ROD or FONSI signed by FTA explicitly provides such pre-award authority for a particular identified acquisition. Project sponsors should use pre-award authority for real property acquisition relocation assistance with a clear understanding that it does not constitute a funding commitment by FTA. FTA provides pre-award authority upon completion of the environmental review process for real property acquisition and relocation assistance for displaced persons and businesses in accordance with the requirements of the URA.

b. Reimbursement of Costs Incurred Under Pre-Award Authority

Although FTA provides pre-award authority for property acquisition, long lead items, and vehicle purchases upon completion of the environmental review process, FTA does not generally award Federal funding for these activities conducted under pre-award authority until the project receives a CIG program construction grant. This is to ensure that Federal funds are not risked on a project whose advancement into construction is not yet assured.

c. National Environmental Policy Act (NEPA) Activities

NEPA requires that major projects proposed for FTA funding assistance be subjected to a public and interagency review of the need for the project, its environmental and community impacts, and alternatives to avoid and reduce adverse impacts. Projects of more limited scope also need a level of environmental review, to determine whether there are significant environmental impacts or confirmation that a CE applies. FTA's regulation titled “Environmental Impact and Related Procedures,” at 23 CFR part 771 states that the costs incurred by a grant applicant for the preparation of environmental documents requested by FTA are eligible for FTA financial assistance (23 CFR 771.105(f)). Accordingly, FTA extends pre-award authority for costs incurred to comply with NEPA regulations and to conduct NEPA-related activities, effective as of the earlier of the following two dates: (1) the date of the Federal approval of the relevant STIP or STIP amendment that includes the project or any phase of the project, or that includes a project grouping under 23 CFR 450.216(j) that includes the project; or (2) the date that FTA approves the project into the project development phase of the CIG program. The grant applicant must notify the appropriate FTA Regional Office upon initiation of the Federal environmental review process consistent with 23 CFR 771.111. NEPA-related activities include, but are not limited to, public involvement activities, historic preservation reviews, Section 4(f) evaluations, wetlands evaluations, and endangered species consultations. This pre-award authority is strictly limited to costs incurred to conduct the NEPA process and associated engineering, and to prepare environmental, historic preservation and related documents. When a New Starts, Small Starts, or Core Capacity project is granted pre-award authority for the environmental review process, the reimbursement for NEPA activities conducted under pre-award authority may be sought at any time through Section 5307 (Urbanized Area Formula Program) or the flexible highway programs (e.g., Surface Transportation Program or Congestion Mitigation and Air Quality Improvement Program). Reimbursement from the Section 5309 CIG program for NEPA activities conducted under pre-award authority is provided only for expenses incurred after entry into the project development phase and only once a construction grant agreement is signed. FTA reimbursement for costs incurred is not guaranteed and recipients may not start activities and incur costs under pre-award authority for property acquisition, demolition, construction, and acquisition of vehicles, equipment, or construction materials until the environmental review process is complete.

For more information about FTA's National Environmental Policy Act (NEPA) activities, contact Megan Blum, Office of Environmental Policy and Programs, at (202) 366-0463 or megan.blum@dot.gov.

d. Other CIG Project Activities Requiring Letter of No Prejudice (LONP)

Except as discussed in paragraphs i through iii above, a CIG project sponsor must obtain a written LONP from FTA before incurring costs for any activity not covered by pre-award authority. To obtain an LONP, an applicant must submit a written request accompanied by adequate information and justification to the appropriate FTA Regional Office, as described in Section V.C.'s. Letter of No Prejudice (LONP) Policy, below.

For more information about the Fixed Guideway Capital Investment Grants program, including LONP policy, real property acquisition, and reimbursement of costs incurred under Pre-Award Authority, contact Susan Eddy, Office of Capital Project Development, at (202) 366-5499 or susan.eddy@dot.gov.

e. Pre-Award Authority for the Expedited Project Delivery (EPD) Pilot Program

The EPD Pilot Program, as authorized by Section 3005(b) of the Fixing America's Surface Transportation Act (FAST Act), is aimed at expediting delivery of new fixed guideway capital projects, small starts projects, or core capacity improvement projects. Section 3005(b) requires FTA to notify Congress and the applicant, in writing, within 120 days after the receipt of a complete application, on the decision of project selection. FTA will extend pre-award authority for all eligible project costs at the time it is announced that a project has been selected. There is no pre-award authority provided until a project selection announcement is made, and costs incurred prior to project selection are not eligible. Letters of No Prejudice will not be provided for the EPD Pilot Program, as all eligible costs are covered by pre-award authority at the time of project selection.

Although FTA provides pre-award authority for eligible project costs, FTA does not award Federal funding for activities conducted under pre-award authority until the project receives an EPD Pilot Program construction grant. This is to ensure that Federal funds are not risked on a project whose advancement into construction is not yet assured. To maintain eligibility for a possible future FTA grant award, any acquisition of real property or real property rights must be conducted in accordance with the requirements of the Uniform Relocation Assistance and Real Property Acquisition Policies Act (URA) and its implementing regulations, 49 CFR part 24.

For more information about the Expedited Project Delivery Pilot Program, contact Susan Eddy, Office of Capital Project Development, at (202) 366-5499 or susan.eddy@dot.gov.

B. FY 2024 Annual List of Certifications and Assurances

Section 5323(n) requires FTA to publish annually a list of all certifications required under Chapter 53 concurrently with the publication of this annual apportionment notice. The FY 2024 version of FTA's Certifications and Assurances is available on FTA's website at https://www.transit.dot.gov/sites/fta.dot.gov/files/2024-03/FY24-certifications.pdf.

FTA cannot make an award or an amendment to an award unless the recipient has executed the latest version of FTA's Certifications and Assurances. FTA encourages recipients of formula funding to execute the FY 2024 Certifications and Assurances electronically in TrAMS within 90 days of this notice, to prevent delays.

C. Letter of No Prejudice (LONP) Policy

1. Policy

LONP authority allows an applicant to incur costs on a project utilizing non-Federal resources, with the understanding that the costs incurred subsequent to the issuance of the LONP may be reimbursable as eligible expenses or eligible for credit toward the local match should FTA approve the project at a later date. LONPs are applicable to projects and project activities not covered by automatic pre-award authority. The majority of LONPs will be for Section 5309 CIG program projects undertaking activities not covered under automatic pre-award authority. LONPs may be issued for formula funds beyond the life of the current authorization or FTA's extension of automatic pre-award authority; however, the LONP is limited to a five-year period, unless otherwise authorized in the LONP, or otherwise extended. Receipt of Federal funding under any program is not implied or guaranteed by an LONP.

2. Conditions and Federal Requirements

The conditions and requirements for pre-award authority specified in Section V.4.ii and V.4.iii above apply to all LONPs for the CIG program. Because project implementation activities may not be initiated before completion of the environmental review process, FTA will not issue an LONP for such activities until the environmental review process has been completed with a combined FEIS/ROD, ROD, FONSI, or CE determination.

3. Request for LONP

Before incurring costs for project activities not covered by automatic pre-award authority, the project sponsor must first submit a written request for an LONP, accompanied by adequate information and justification, to the appropriate Regional Office and obtain written approval from FTA. FTA approval of an LONP is determined on a case-by-case basis. Federal funding under the CIG program is not implied or guaranteed by an LONP. Specifically, when requesting an LONP, the applicant shall provide the following items:

a. Description of the activities to be covered by the LONP.

b. Justification for advancing the identified activities. The justification should include an accurate assessment of the consequences to the project scope, schedule, and budget should the LONP not be approved.

c. Allocated level of risk and contingency for the activity requested.

D. Civil Rights Requirements

Recipients must ensure their programs and services operate in a nondiscriminatory manner and fulfill reporting requirements to document their civil rights compliance as a condition to receiving Federal funds.

Americans with Disabilities Act (ADA) of 1990: Recipients must carry out provisions of the ADA, related provisions in Section 504 of the Rehabilitation Act of 1973, as amended, and the Department of Transportation's implementing regulations at 49 CFR parts 27, 37, 38, and 39. FTA's ADA Circular 4710.1, “Americans with Disabilities Act (ADA): Guidance,” provides guidance for implementing the regulatory requirements of the ADA. As public entities, recipients may also be subject to Department of Justice regulations implementing Title II of the ADA (28 CFR part 35); in addition, as employers, recipients may be subject to Equal Employment Opportunity Commission regulations implementing the employment titles of the ADA (29 CFR part 1630).

In addition, recipients must regularly prepare and submit in TrAMS civil rights program plans and reports to establish and demonstrate compliance and document policies and practices in the following areas:

Title VI of the Civil Rights Act of 1964: The Department of Transportation's Title VI implementing regulations are found in 49 CFR part 21. FTA's Title VI Circular 4702.1B, “Title VI Requirements and Guidelines for Federal Transit Administration Recipients,” provides guidance for carrying out the regulatory requirements and outlines the Title VI program requirements and timeline for submitting updates.

Disadvantaged Business Enterprise (DBE) program: The Department of Transportation's DBE implementing regulations are found in 49 CFR part 26 and set forth requirements for implementing the DBE program in good faith and developing and reporting on the triennial DBE goal.

Recipients should be aware that the DBE program regulations were recently revised, and a Final Rule was published in the Federal Register on April 9, 2024 (89 FR 24898). More information is available at https://www.transportation.gov/DBEFinalRule. Some changes took effect on May 9, 2024, and recipients should read the Federal Register notice in detail. Beginning in FY 2025, FTA will move to a tiered system, and essentially all FTA recipients of planning, capital, or operating assistance that procure goods or services with FTA funds will be subject to some DBE program requirements.

Title VII of the Civil Rights Act of 1964, Equal Employment Opportunity (EEO): The Department of Transportation's EEO implementing regulations are found in 49 CFR part 21. FTA's EEO Circular 4704.1A, Equal Employment Opportunity (EEO) Requirements and Guidelines, provides guidance for carrying out the regulatory requirements and outlines the EEO program submission process.

Recipients are expected to maintain current civil rights program plans and submit required reports in TrAMS. Recipients with past due or expired programs are ineligible for new funding awards and may be subject to other remedies or sanctions at FTA's discretion.

While not new requirements, recipients are specifically reminded of the following:

• Recipients in urbanized areas of 200,000 or more in population and with 50 or more fixed-route vehicles in peak service must conduct a service equity analysis for all service changes that meet the recipient's definition of “major service change” prior to implementing the service change. Those recipients also must conduct a fare equity analysis for all fare increases or decreases prior to implementing a fare change. Furthermore, an environmental justice analysis is not a substitute for a Title VI service equity analysis triggered by a major service change or fare change. When a full equity analysis is not required due to the size of the recipient or duration of a change, FTA expects agencies to take steps to ensure changes are equitable and nondiscriminatory.

• Recipients are encouraged to reach out to FTA's Office of Civil Rights when contemplating new projects, new services, or new service models for technical assistance and guidance, to support recipients in achieving their equity and accessibility goals and complying with Federal civil rights requirements.

For more information about civil rights requirements, contact Nicole Payne, Office of Civil Rights, at (202) 366-6293 or nicole.payne@dot.gov.

E. Consolidated Planning Grants

The Consolidated Planning Grants (CPG) Program allows States and Metropolitan Planning Organizations (MPOs) to merge funds from the FTA Metropolitan Planning Program (MPP) and State Planning and Research Program (SPRP) with FHWA Metropolitan Planning (PL) and State Planning and Research (SPR) funds into a single consolidated planning grant. Transferred planning funds can be awarded and administered by either FTA or FHWA. The CPG eliminates the duplication of two separate grants funding the same planning activity, by streamlining monitoring and ensuring that the oldest funds will always be used first.

Under the CPG, States can report MPP expenditures to comply with the Uniform Administrative Requirements, 2 CFR part 200, subpart E, for both FTA and FHWA under the Catalogue of Federal Domestic Assistance number for FTA's Metropolitan Planning Program (20.505). Additionally, for States with an FHWA Metropolitan Planning fund-matching ratio greater than 80 percent, the State can waive the 20 percent local share requirement, with FTA's concurrence, to allow FTA funds used for metropolitan planning in a CPG to be granted at the higher FHWA sliding scale rate. For some States, this Federal match rate can exceed 90 percent.

States interested in transferring planning funds between FTA and FHWA should contact the FTA Regional Office or FHWA Division Office for more detailed procedures. FHWA Order 4551.1 dated August 12, 2013, titled “Fund Transfers to Other Agencies and Among Title 23 Programs,” provides guidance and more detailed information. (See: https://www.fhwa.dot.gov/legsregs/directives/orders/45511.cfm.)

For further information on CPGs, contact Ann Souvandara, Office of Budget and Policy, FTA, at (202) 366-0649 or ann.souvandara@dot.gov, or Ryan Long, Office of Planning and Environment at (202) 366-6466 or ryan.long@dot.gov.

F. Grant Application Procedures

All applications are filed electronically. FTA continues to award and manage grants and cooperative agreements using the Transit Award Management System (TrAMS). To access TrAMS, contact your FTA Regional Office. Resources on using TrAMS can be found on FTA's website at https://www.transit.dot.gov/TrAMS.

FTA regional staff are responsible for working with potential recipients to review and process grant applications. Recipients are strongly encouraged to submit draft applications that must be obligated before the end of the Federal Fiscal Year and require Department of Labor certification to Regional Offices no later than the end of June in order to ensure obligation prior to September 30.

In order for an application to be considered complete and for FTA to assign a Federal Award Identification Number (FAIN), enabling submission in TrAMS, and submission to the Department of Labor (when applicable), the following requirements must be met:

i. Applicants must be registered and have an “active status” in the System for Award Management (SAM) and its registration is current. To register an entity or check the status and renew registration, visit the SAM.GOV website at https://www.sam.gov/SAM.

ii. Applicant's contact information is correct and up to date.

iii. Applicant has properly submitted its annual certifications and assurances.

iv. Applicant's Civil Rights submissions are current and approved.

v. Recipient has a Transit Asset Management plan in place that meets the requirements of 49 CFR part 625 or is covered by a compliant Group Plan.

vi. Documentation is on file to support status as either a designated recipient (for the program and area) or a direct recipient.

vii. Funding is available, including any flexible funds included in the budget, and split letters or suballocation letters on file, where applicable, to support amount being applied for in grant application.

viii. The activity is listed in a currently approved Transportation Improvement Program (TIP); Statewide Transportation Improvement Program (STIP), or Unified Planning Work Program (UPWP) unless such requirements have been waived for the specific funding and activity type to facilitate response and recovery from the COVID-19 public health emergency.

ix. All eligibility issues are resolved.

x. Required environmental findings are made.

xi. The application contains a well-defined scope of work including at least one project with accompanying project narratives, budget that includes scope codes and activity line-item information, Federal and non-Federal funding amounts, and milestones.

xii. Major Capital Projects as defined by 49 CFR part 633 Project Management Oversight must document that FTA has reviewed the project management plan and provided approval.

xiii. Milestone information is complete. FTA will also review status of other open grant reports to confirm financial and milestone information is current on other open awards.

xiv. Applicant has ensured that it has registered to report to the National Transit Database, and that any subrecipients that provide public transportation service have also registered to report to the National Transit Database.

Other important issues that impact FTA grant processing activities are discussed below.

A. Award Budgets—Scope Codes and Activity Line Items (ALI) Codes; Financial Purpose Codes

FTA uses the Scope and Activity Line Item (ALI) Codes in the award budgets to track program trends, to report to Congress, and to respond to requests from the Inspector General and the Government Accountability Office (GAO), as well as to manage grants. The accuracy of the data is dependent on the careful and correct use of codes. ALI codes should contain information on quantities (e.g., the number of vehicles) related only to the funding identified for that ALI code.

B. Designated and Direct Recipients Documentation

For its formula programs, FTA primarily apportions funds to the Designated Recipient in the large UZAs (areas over 200,000), or for areas under 200,000 (small UZAs and rural areas), it apportions the funds to the Governor, or the Governor's designee (e.g., State DOT). The 2020 Census urban area delineations may have impacts to FTA designated and direct recipients. The effects of the new Census boundaries are reflected in FTA's FY 2024 apportionments. FTA has additional resources and information available on its Census web page at https://www.transit.dot.gov/census. Depending on the program and as described in the individual program Sections found in Section IV of this notice, further suballocation of funds may be permitted to eligible recipients who may then apply directly to FTA for the funding as direct recipients.

For the programs in which FTA can make grants to eligible direct recipients, other than the designated recipients, recipients are reminded that documentation must be on file to support the (1) status of the recipient either as a designated recipient or direct recipient; and (2) the allocation of funds to the direct recipient.

Documentation to support existing designated recipients for the UZA must also be on file at the time of the first application in FY 2024. Suballocation letters (also called split letters or governor's apportionment letters) must also be on file to support grant applications from direct recipients. Once suballocation letters for FY 2024 funding are finalized they should also be uploaded as part of the application into TrAMS.

The Direct Recipient is required to upload to TrAMS a copy of the suballocation letter indicating the allocation of funding for the appropriate fund program when the applicant transmits its application for initial review. The suballocation letter must be signed by the Designated Recipient, or as applicable in accordance with local planning requirements. If there are two Designated Recipients, both entities must sign the suballocation letter. The suballocation letter must: (1) specify the allocations to the respective Direct Recipients listed in the letter; (2) incorporate language above the signatories to reflect this agreement; and (3) make clear that the Direct Recipient will assume all responsibility associated with the award for the funds. When drafting the suballocation letter, Designated Recipients may use the template language below:

As identified in this Letter, the Designated Recipient(s) authorize(s) the reassignment/reallocation of [enter fund source, e.g., Section 5307 funds] to the Direct Recipient(s) named herein. The undersigned agree to the amounts allocated/reassigned to each Direct Recipient. Each Direct Recipient is responsible for its application to the Federal Transit Administration to receive such funds and assumes the responsibilities associated with any award for these funds.

C. Changes to Suballocations

Should the Governor (or Governor's designee) or designated recipient desire to change any amount of apportioned funds that was previously suballocated and documented in a suballocation letter, such changes must be incorporated into an updated suballocation letter. These changes may also require modifications to any applicable programs of projects and metropolitan and/or statewide planning documents (e.g., TIP/STIP).

1. Payments

Once a grant has been awarded and executed, requests for payment can be processed. To process payments FTA uses ECHO-Web, an internet accessible system that provides recipients the capability to submit payment requests on-line, as well as receive user-IDs and passwords via email. New applicants should contact the appropriate FTA Regional Office to obtain and submit the registration package necessary for set-up under ECHO-Web.

2. Oversight

FTA is responsible for conducting oversight activities to help ensure that grant recipients use FTA Federal financial assistance in a manner consistent with their intended purpose and in compliance with regulatory and statutory requirements. Each Urbanized Area Formula Program recipient is reviewed every three years, (FTA's Triennial Review); and States and statewide public transportation agencies are reviewed periodically to assess the management practices and program implementation of FTA state-wide programs (e.g., Planning, Rural Areas, Enhanced Mobility of Seniors and Individuals with Disabilities Programs). Other more detailed reviews are scheduled based on an annual recipient oversight assessment. Important objectives of FTA's oversight program include but are not limited to: determining recipient compliance with Federal requirements; identifying technical assistance needs and delivering technical assistance to meet those needs; spotting emerging issues with recipients in a forward-looking fashion; recognizing when there is a need for more in-depth reviews in the areas of procurement, financial management, and civil rights; and identifying recipients with recurring or systemic issues.

3. Technical Assistance

As noted throughout the notice, FTA continues to rely on several of the existing program circulars for general program guidance. FTA is continuing to update the program circulars, with an opportunity for notice and comment where warranted, to reflect amendments to chapter 53 of title 49, U.S.C. made by IIJA and other Federal laws. In the meantime, if you have any questions, please do not hesitate to contact FTA. FTA headquarters and regional staff will be pleased to answer your questions and provide any technical assistance you may need to apply for FTA program funds and manage the grants you receive. At its discretion, FTA may also use program oversight consultants to provide technical assistance to recipients on a case-by-case basis. This notice and the program guidance circulars previously identified in this document may be accessed via the FTA website at https://www.transit.dot.gov/.

G. Grant Management

1. Grant Reporting

Recipients of FTA funds are reminded that all FTA recipients are required to report on their grants and that it is critical to ensure reports demonstrate that reasonable progress is being made on the project. At a minimum, all awards require a Federal Financial Report (FFR) and a Milestone Progress Report (MPR) on an annual basis, with some reports required quarterly depending on the recipient and the type of projects funded under the grant. The requirements for these reports and other reporting requirements can be found in FTA Circular 5010.1E, “Grant Management Requirements,” dated July 16, 2018. FTA staff, auditors, and contractors rely on the information provided in the FFR and MPR to review and report on the status of both financial and project-level activities contained in the grant. It is critical that recipients provide accurate and complete information in these reports and submit them by the required due date. Failure to report or demonstrate reasonable progress on projects can result in suspension or premature close-out of a grant.

2. Inactive Grants and Grant Closeout

In FY 2024, FTA will continue to focus on inactive grants and grants that do not comply with reporting requirements. If appropriate, FTA will take action to close out and deobligate funds from these grants if reasonable progress is not being made. The efficient use of funds will further FTA's fulfillment of its mission to provide efficient and effective public transportation systems for the nation.

At the end of Federal Fiscal Year 2024, FTA will identify the list of grants that were awarded on or prior to September 30, 2021, have had no funds disbursed or have not had a disbursement since September 30, 2023. FTA Regional Offices will contact grant recipients with grants that meet these criteria to notify them that FTA intends to close the grant and deobligate any remaining funds unless the recipient can provide information that demonstrates that the projects funded by the grant remain active and the recipient has a realistic schedule to expedite completion of the projects funded in the grant.

3. Transportation Investments Generating Economic Recovery (TIGER), Better Utilizing Investments To Leverage Development (BUILD) and Rebuilding American Infrastructure With Sustainability and Equity (RAISE) Discretionary Grants

Recipients of open TIGER, BUILD and RAISE grants should be aware that, as a matter of law, all remaining TIGER funds must be disbursed from grants by the end of the fifth fiscal year after the Expiration of Obligation Authority. (See, 31 U.S.C. 1552.) For FTA TIGER VIII projects, that deadline is the end of FY 2024. Accordingly, once ECHO closes for disbursements in late September 2024, all undisbursed funds within FTA TIGER VIII-funded grants will no longer be available to the recipient. These undisbursed funds will be deobligated from the grant. Even if a recipient has incurred costs or disbursed funds prior to the close of ECHO, and the recipient has not drawn down the funds by the time ECHO closes, FTA will be unable to reimburse the recipient. Therefore, recipients with open TIGER VIII grants must ensure project activities are completed and all funds are drawn down before ECHO closes by late September 2024.

Section 109D of the Consolidated Appropriations Act, 2024 includes an administrative provision for the RAISE program. This provision extends the obligation deadline from September 20, 2024, to September 30, 2027, for FY 2021 RAISE funds that are unobligated on September 30, 2024.

For more information about the Transportation Investments Generating Economic Recovery (TIGER), Better Utilizing Investments to Leverage Development (BUILD) and Rebuilding American Infrastructure with Sustainability and Equity (RAISE) Discretionary Grants program, contact Victor Waldron, Office of Transit Programs at (202) 366-5183 or victor.waldron@dot.gov.

The contents of this document do not have the force and effect of law and are not meant to bind the public in any way. This document is intended only to provide clarity to the public regarding existing requirements under the law or agency policies. Recipients should refer to applicable regulations and statutes referenced in this document.

Veronica Vanterpool,
Acting Administrator.

[FR Doc. 2024-11934 Filed 5-30-24; 8:45 am]

BILLING CODE 4910-57-P